DEPARTMENT OF STATE

[Public Notice 4786]

Office of Protocol; Gifts to Federal Employees From Foreign Government Sources Reported to Employing Agencies in Calendar Year 2003

The Department of State submits the following comprehensive listing of the statements which, as required by law, Federal employees filed with their employing agencies during calendar year 2003 concerning gifts received from foreign government sources. The compilation includes reports of both tangible gifts and gifts of travel or travel expenses of more than minimal value, as defined by statute.

Publication of this listing in the Federal Register is required by Section 7342(f) of Title 5, United States Code, as added by Section 515(a)(1) of the Foreign Relations Authorization Act, Fiscal Year 1978 (Pub. L. 95-105, August 17, 1977, 91 Stat. 865).

Dated: July 14, 2004.
Grant S. Green, Jr.,
Under Secretary for Management, Department of State.

Agency: White House Office and the National Security Council
[Report of tangible gifts]
Name and title of person accepting the gift on behalf of the U.S. Government | Gift, date of acceptance on behalf of the U.S. Government, estimated value, and current disposition or location | Identity of foreign donor and government | Circumstances justifying acceptance
President | Furniture: 4′ round table made of hardened lava, with Presidential Seal in mosaic on top, and metal base. Recd—January 17, 2003 | The Honorable Nello Musumeci, President, Catania Regional Province, Italy | Non-acceptance would cause embarrassment to donor and U.S. Government.
|  | Mr. Francesco Seminara, Councilor for Trade, Industry and Handicrafts, Catania Regional Province, Italy
President | Hardcover book: “Dijbouti: Fleuron de la Mer Rouge,” by Mohamed Abdillahi Wais and Houssein Ahmed Hersi. Recd—January 21, 2003. Est. Value—$40. Archives Foreign | His Excellency, Ismail Omar Guelleh, President of the Republic of Djibouti | Non-acceptance would cause embarrassment to donor and U.S. Government.
| Coins (2): 1¼″ gold-tone coin and 1½″ silver-tone coin, both commemorting the 20th anniversary of Djibouti's independence. Medallion: 3″ bronze medallion with “Republique de Djibouti” in relief on one side and “Presidence de la Republique” on the reverse. Recd—January 21, 2003. Est. Value—$295. Archives Foreign
| Dish: 4¼″ round silver-plated dish with seal of Djibouti in relief on the bottom. Recd—January 21, 2003. Est. Value—$40. Archives Foreign
President | Consumables: Tunisian dates. Recd—January 28, 2003. Est. Value—$60. Handled pursuant to Secret Service policy | His Excellency Zine El-Abidine Ben Ali, President of the Republic of Tunisia | Non-acceptance would cause embarrassment to donor and U.S. Government.
| Chest: 20½″ x 16″ black and grey leather chest with hinged lid; interior is padded and holds a two-tiered wood lined tray. Recd—January 28, 2003. Est. Value—$280. Archives Foreign
President | Timepiece: Franck Muller “Long Island 1200 QP” watch with black leather band, white gold housing, and perpetual calendar; held in a black leather case. Recd—January 30, 2003. Est. Value—$12000. Archives Foreign | His Excellency Silvio Berlusconi, President of the Council of Ministers of the Italian Republic | Non-acceptance would cause embarrassment to donor and U.S. Government.
President | Desk accessory: Conway Stewart “Churchill Presentation Box,” including a “Churchill” pen, a bottle of ink, a cigar, and a small book of Churchill quotations; held in a green leatherette case with gold tooling. Recd—January 31, 2003. Est. Value—$375. Archives Foreign | The Right Honorable Tony Blair, M.P., United Kingdom | Non-acceptance would cause embarrassment to donor and U.S. Government.
President | Clock: 11″ gold-plated silver and enamel clock with date display, paintings of wildlife on three sides, and a blue domed top painted with gold stars; held in a blue leather presentation case. Recd—February 3, 2003. Est. Value—$4000. Archives Foreign | His Majesty Shaykh Hamad bin Essa Al Khalifa, King of the Kingdom of Bahrain | Non-acceptance would cause embarrassment to donor and U.S. Government.
President | Timepiece: 4″ sterling silver clock with piece of amber with sliver eagle in center mounted below clock face. Recd—February 5, 2003. Est. Value—$300. Archives Foreign | His Excellency Leszek Miller, Prime Minister of the Republic of Poland | Non-acceptance would cause embarrassment to donor and U.S. Government.
President | Statue: 13″ silver figural of an oak leaf with acorns; mounted on a round silver base engraved “President of Latvia” with donor's signature and “17th February 2003.” Recd—January 17, 2003. Est. Value—$750. Archives Foreign | Her Excellency The President of the Republic of Latvia and Mr. Imants Freibergs | Non-acceptnce would cause embarrassment to donor and U.S. Government.
President | Briefcase: 17¾ x 12″ red Barrow & Gale briefcase of the kind traditionally used by Prime Ministers of Great Britain; “President United States of America” and “43” embossed in gold on lid. Recd—February 17, 2003. Est. Value—$1300. Archives Foreign | His Excellency Sir Christopher Meyer, KCMG, Ambassador of Great Britain | Non-acceptance would cause embarrassment to donor and U.S. Government.
President | Artwork: two 8″ x 6½″ limited edition engravings by Alejandro Macarron Jaime, “Fresmos” (223/250) and “Olivos” (226/250), depicting rural scenes with trees; matted side by side and held in a 22¼″ x 11½″ burled wood frame. Recd—February 21, 2003. Est. Value—$350. Archives Foreign | His Excellency Jose Maria Aznar, President of the Government of Spain and Mrs. Aznar | Non-acceptance would cause embarrassment to donor an U.S. Government.
President | Coffee service: gold-tone service consisting of six 2½″ cups and 4¼ saucers, 4″ sugar bowl, 3½″ creamer, 6¼″ coffee pot, 10″ server, and 16″ tray, all with intricate floral motif rendered in enamel. Recd—February 26, 2003. Est. Value—$900. Archives Foreign | His Excellence Heydar Aliyev, President of the Republic of Azerbaijan | Non-acceptance would cause embarrassment to donor and U.S. Government.
President | Rug: 80″ x 118″ dark red Afghan area rug. Recd—February 27, 2003. Est. Value—$4500. Archives Foreign | His Excellency Hamid Karzai, Chairman of the Interim Authority of Afghanistan | Non-acceptance would cause embarrassment to donor and U.S. Government.
| Statue: 13″ bronze statue of President Bush with two Afghan children; presentation plaque on base engraved “From All Afghan Children in Appreciation of Your Enduring Support of Our Education.” Recd—February 27, 2003. Est. Value—$5000. Archives Foreign
President | Medallions (3): 1¾″ bronze, silver and 22K gold medallions with the Pope on one side and Assisi on the reverse. Recd—March 5, 2003. Est. Value—$600. Archives Foreign | His Eminence Pio Cardinal Laghi | Non-acceptance would cause embarrassment to donor and U.S. Government.
President | Consumable: 75 cl bottle of Romariz port. Recd—March 16, 2003. Est. Value—$80. Handled pursuant to Secret Service policy | His Excellency Jose Manuel Durao Barroso, Prime Minister of Portugal | Non-acceptance would cause embarrassment to donor and U.S. Government.
| Medallion 2¼″ sterling silver medallion with enamel sunburst design and fleur de lis on top. Recd—March 16, 2003. Est. Value—$250. Archives Foreign.
| Desk accessory: 21″ x 14″ black leather blotter with gold trim. Recd—March 16, 2003. Est. Value—$214. Archives Foreign
President | Ceremonial item: 16″ bronze mask from the Bamoun ethnic group, with two-headed snake and spiders depicted on top. Recd—March 20, 2003. Est. Value—$1500. Archives Foreign | His Excellency Paul Biya, President of the Republic of Cameroon | Non-acceptance would cause embarrassment to donor and U.S. Government.
| Ceremonial item: 32″ bronze royal pipe from the Bamoun ethnic group, with a male face at the base. Recd—March 20, 2003. Est. Value—$2200. Archives Foreign
President | Artwork: 12¼″ x 18″ watercolor painting by Alison Brown of the facade and lawn of a stone building; double-matted and held in a 20½″ x 26″ wooden frame. Recd—April 7, 2003. Est. Value—$550. Archives Foreign | The Right Honorable Paul Murphy, M.P., Secretary of State for Northern Ireland | Non-acceptance would cause embarrassment to donor and U.S. Government.
President | Housewares: 5½″ Moser wine glasses (6) with gold detailing and 6¼″ matching goblets (6). Recd—April 9, 2003. Est. Value—$1800. Archives Foreign | His Excellency The President of the Slovak Republic and Mrs. Schusterova | Non-acceptance would cause embarrassment to donor and U.S. Government.
| Miscellaneous items (2): 8½″ black wool hat with silver 10-chain band around crown and elastic chin strap; and 42″ light brown leather belt (4½″ wide) with geometric floral design and gold tone detailing, including engraved clasps. Recd—April 9, 2003. Est. Value—$200. Archives Foreign
| Ax: 36½″ decorative wood and metal long-handled ax with rural Slovak scenes engraved on blade. Recd—April 9, 2003. Est. Value—$125. Archives Foreign
| Musical instrument: 60″ woodwind instrument carved with a floral motif and accompanied by a matching 25″ percussion stick. Recd—April 9, 2003. Est. Value—$150. Archives Foreign
President | Artwork: 61″ x 38″ scroll with broad black brushstroke image. Recd—May 6, 2003. Est. Value—$800. Archives Foreign | His Excellency Goh Chok Tong, Prime Minister of the Republic of Singapore | Non-acceptance would cause embarrassment to donor and U.S. Government.
| Desk accessory: black Namiki pen with image of Mount Fuji; held in a black velvet presentation box with small plaque engraved “Presented to HE George W Bush President of the United States of America by Goh Chok Tong Prime Minister of the Republic of Singapore Signing of the USSFTA, 6 May 2003. Recd—May 6, 2003. Est. Value—$300. Archives Foreign.
President | Household item: 9″ sterling silver mantel clock with round face and set on a half-moon wooden base with five gnus around the edge; held in a red leather presentation case. Recd—May 8, 2003. Est. Value—$3000. Archives Foreign | His Highness Sheikh Hamad bin Khalifa Al Thani, Amir of the State of Qatar | Non-acceptance would cause embarrassment to donor and U.S. Government.
President | Salakot and baston: ceremonial 10″ woven reed hat and 33½″ wood and silver cane symbolizing social prestige in traditional Filipino culture; accompanied by a 12½″ x 15¾″ framed explanatory certificate with wooden stand. Recd—May 19, 2003. Est. Value—$225. Archives Foreign | Her Excellency Gloria Macapagal-Arroyo, President of the Republic of the Philippines and Mr. Jose Miguel Arroyo | Non-acceptance would cause embarrassment to donor and U.S. Government.
| Furniture: 40″ x 43″ x 42½″ butaca, or plantation chair, made of Phillippine ebony with a wicker back; accompanied by a 12″ x 15¾″ framed explanatory certificate with wooden stand. Recd—May 19, 2003. Est. Value—$350. Archives Foreign
President | Household item: 10¼″ green jade table clock with gold detailing and topped by pearl-studded crown; held in a wooden presentation case. Recd—May 28, 2003. Est. Value—$7500. Archives Foreign | His Excellency Vladimir Putin, President of the Russian Federation | Non-acceptance would cause embarrassment to donor and U.S. Government.
President | Artwork: 26″ x 18″ watercolor painting of a Krakow street; matted and held in a 34″ x 26″ wooden frame with small presentation plaque from donor, engraved in Polish. Recd—May 30, 2003. Est. Value—$350. Archives Foreign | His Excellency Aleksander Kwasniewski, President of the Republic of Poland | Non-acceptance would cause embarrassment to donor and U.S. Government.
President | Consumables (3): 3.4 oz. Christian Dior “Higher” after-shave lotion, 3.4 oz. eau de toilette, and 5.2 oz. bar of soap. Recd—June 1, 2003. Est. Value—$133. Handled pursuant to Secret Service policy | His Excellency Jacques Chirac, President of the French Republic | Non-acceptance would cause embarrassment to donor and U.S. Government.
| Desk accessories (2): Waterman “Edson” rollerball and fountain pens; held in a blue case with “Sommet d'Evian 1er-3 uin 2003” embossed in gold on lid. Recd—June 1, 2003. Est. Value—$1345. Archives Foreign
| Accessory: Bernard-Richares quartz watch with double movement and Roman and Arabic numerals; engraved on back “Sommet d'Evian 1er-3 uin 2003” and held in a blue leather presentation case. Recd—June 1, 2003. Est. Value—$321. Archives Foreign.
| Accessory: 11″ x 7″ x 4½″ brown leather Longchamp toiletry kit. Recd—June 1, 2003. Est. value-$95. Archives Foreign
President | Box: 4½″ gold-rimmed oyster shell box with gold outline of Bahrain on inside lid and filled with numerous seed pearls; held in a 10¾″ x 3¼″ x 7¼″ wooden presentation case. Recd—June 3, 2003. Est. Value—$2500. Archives Foreign | His Majesty Shaykh Hamad bin Essa Al Khalifa, King of the Kingdom of Bahrain | Non-acceptance would cause embarrassment to donor and U.S. Government.
President | Household item: 16½″ x 9¾″ mantel clock with malachite base and statue of horse on top; clock is elaborately detailed in silver and gold vermeil, and held in a green leather presentation case. Recd—June 3, 2003. Est. Value—$8500. Archives Foreign | His Royal Highness Abdallah bin Abd al-Aziz Al Saud Crown Prince, First Deputy Prime Minister and Commander of the National Guard of Saudi Arabia | Non-acceptance would cause embarrassment to donor and U.S. Government.
President | Desk accessory: 9″ silver limited edition series (1056/2000) Cartier letter opener with time piece embedded in one end; held in a red leather presentation case. Recd—June 4, 2003. Est. Value—$1210. Archives Foreign | His Majesty King Abdullah II of the Hashemite Kingdom of Jordan | Non-acceptance would cause embarrassment to donor and U.S. Government.
| Consumables (4): two 500 ml., and two 750 ml. bottles of “Jordan's Treasure” extra virgin olive oil with 2¼″ silver-tone corked pourers; held in a 15″ x 16¼″ wooden presentation box. Recd—June 4, 2003. Est. Value—$172. Handled pursuant to Secret Service policy
President | Textile: 77¼″ x 117″ silk rug depicting the crucifixion of Christ, surrounded by the stations of the cross. Recd—June 5, 2003. Est. Value—$5200. Archives Foreign | His Highness Sheikh Hamad bin Khalifa Al Thani, Amir of the State of Qatar | Non-acceptance would cause embarrassment to donor and U.S. Government.
President | Desk accessories (3): sterling silver desk set consisting of 7″ letter opener, 3¾″ x 3¾″ pen and ink stand, and 6½″ x 1¾″ x 4″ box with “George W. Bush” engraved on lid and presentation plaque mounted to interior burl wood lining. Recd—June 10, 2003. Est. Value—$1000. Archives Foreign | His Excellency Thaksin Shinawatra, Prime Minister of the Kingdom of Thailand | Non-acceptance would cause embarrassment to donor and U.S. Government.
President | Artwork: 12″ silver enamel ambavari figural of an elephant with mahout and royal canopy. Recd—June 13, 2003. Est. Value—$2500. Archives Foreign | His Excellency Lal Krishna Advani, Deputy Prime Minister of the Republic of India | Non-acceptance would cause embarrassment to donor and U.S. Government.
President | Box: 9″ x 2½″ x 5½″ sterling silver box with burl wood interior and coat of arms on lid. Recd—June 13, 2003. Est. Value—$1000. Archives Foreign | His Royal Highness Crown Prince Vajiralongkorn, Kingdom of Thailand | Non-acceptance would cause embarrassment to donor and U.S. Government.
President | Desk accessories (3): 5″ sterling silver page marker with sodalite stone on end; 7¾″ silver letter opener with sodalite stone on end; and 2″ x 2″ silver paperweight with large sodalite stone inside. Recd—June 20, 2003. Est. Value—$375. Archives Foreign | His Excellency Luiz Inacio Lula da Silva, President of the Federative Republic of Brazil | Non-acceptance would cause embarrassment to donor and U.S. Government.
President | Miscellaneous item: 32″ x 37″ wooden model ship intricately detailed with canvas sails and full rigging. Recd—June 26, 2003. Est. Value—$750. Archives Foreign | The Right Honorable Sir Anerood Jugnauth, K.C.M.G., P.C., Q.C., Prime Minister of the Republic of Mauritius | Non-acceptance would cause embarrassment to donor and U.S. Government.
President | Pin: 1¼″ American flag lapel pin with 18K gold and silver detailing and sapphires and rubies; held in a polished wooden box. Recd—June 26, 2003. Est. Value—$500. Archives Foreign | Her Excellency Mireya Moscoso, President of the Republic of Panama | Non-acceptance would cause embarrassment to donor and U.S. Government.
| Miscellaneous item: collection of 15 vermeil reproductions of ornaments made by pre-Columbian goldsmiths in Panama; double-matted and held in a 25½″ x 25½″ wooden frame. Recd—June 26, 2003. Est. Value—$1750. Archives Foreign |  | Non-acceptance would cause embarrassment to donor and U.S. Government.
President | Miscellaneous item: 9″ pure silver replica of a bronze askos, an ancient Greek flask. Recd—June 30, 2003. Est. Value—$500. Archives Foreign | His Excellency Constantine Simitis Prime Minister of the Hellenic Republic | Non-acceptance would cause embarrassment to donor and U.S. Government.
President | Clothing: traditional ensemble of long grey cotton robe and matching pants. Recd—July 8, 2003. Est. Value—$550. Archives Foreign | His Excellency The President of the Republic of Senegal and Mrs. Wade | Non-acceptance would cause embarrassment to donor and U.S. Government.
President | Miscellaneous item: 12″ silver eagle in a 19½″ x 19½″ x 21½″ glass display case. Recd—July 8, 2003. Est. Value—$500. Archives Foreign | His Excellency Abdoulaye Wade President of the Republic of Senegal | Non-acceptance would cause embarrassment to donor and U.S. Government.
President | Game: “The Tribal Heritage Collection” chess set with 14½″ x 14½″ wooden board set on lid of box containing 32 ceramic chess pieces; with plaque engraved “Presented to President George W. Bush, by President Thabo M. Mbeki on the occasion of his visit to the Republic of South Africa 08-11 July 2003”. Recd—July 9, 2003. Est. Value—$1750. Archives Foreign | Mr. Thabo Mbeki, President of the Republic of South Africa | Non-acceptance would cause embarrassment to donor and U.S. Government.
| Consumable: 25 year old brandy from western Cape region of South Africa. Recd—July 9, 2003. Est. Value—$70. Handled pursuant to Secret Service policy
| Miscellaneous item: 9½″ dimpled glass brandy bottle etched with seal of South Africa; held in a wood and glass display case with plaque engraved “Presented to President George W. Bush by President Thabo M. Mbeki on the occasion of his visit to the Republic of South Africa 08-11 July 2003”. Recd—July 9, 2003. Est. Value—$126. Archives Foreign
President | Artwork: 49½″ x 22″ oil painting of a river and mountains in Uganda; held in a 54″ x 26″ wooden frame. Recd—July 11, 2003. Est. Value—$5600. Archives Foreign | His Excellency Yoweri Kaguta Museveni, President of the Republic of Uganda | Non-acceptance would cause embarrassment to donor and U.S. Government.
President | Artwork: 38″ bronze casting of the outline of Nigeria with several figures inside, representing the different tribes of the country; held in a 41″ x 39″ gold-tone frame with plaque engraved “Presented to George W. Bush, President of the United States of America By Chief Olusegun Obasanjo, GCFR President of the Federal Republic of Nigeria”. Recd—July 12, 2003. Est. Value—$5500. Archives Foreign | His Excellency Olusegun Obasanjo, President of the Federal Republic of Nigeria | Non-acceptance would cause embarrassment to donor and U.S. Government.
President | Crystal: set of six Egermann Bohemian crystal sherry glasses with silver detaining and matching decanter. Recd—July 15, 2003. Est. Value—$1224. Archives Foreign | His Excellency Vladimir Spidla, Prime Minister of the Czech Republic | Non-acceptance would cause embarrassment to donor and U.S. Government.
President | Artwork: 33″ alabaster sculpture of “The Flight from Carthage”, depicting Paris and Helen fleeing to Troy. Recd—July 20, 2003. Est. Value—$4500. Archives Foreign | His Excellency Silvio Berlusconi, President of the Council of Ministers of the Italian Republic | Non-acceptance would cause embarrassment to donor and U.S. Government.
President | Consumable: approximately 300 lb. of lamb. Recd—July 23, 2003. Est. Value—$1500. Transferred to the General Services Administration | His Excellency The President of the Argentine Nation and Mrs. Kirchner | Non-acceptance would cause embarrassment to donor and U.S. Government.
| Clothing: grey wool poncho with orange design on front and fringed ends. Recd—July 23, 2003. Est. Value—$214. Archives Foreign
President | Portrait: 22½″ x 32¾″ woven rug with image of President Bush in center; mounted under glass in 26″ x 36¼″ double-sided gold-tone frame. Recd—July 25, 2003. Est. Value—$329. Archives Foreign | His Excellency Mohammad Aref Noorzai, Minister of Borders and Tribal Affairs of The Islamic Transitional State of Afghanistan | Non-acceptance would cause embarrassment to donor and U.S. Government.
President | Replica: 35″ wooden model of a ship with full rigging and a wooden stand with presentation plaque. Recd—September 10, 2003. Est. Value—$350. Archives Foreign | His Highness Sheikh Sabah Al-Ahmed Al-Jaber Al-Sabah, Prime Minister of the State of Kuwait | Non-acceptance would cause embarrassment to donor and U.S. Government.
President | Artwork: original watercolor portraits of the forty-three Presidents of the United States, bound in a 14″ x 18½″ red velvet book studded with precious gems; held in a 17¼″ x 27″ x 5″ polished wooden presentation case with amber mosaic of the United States on lid. Recd—September 26, 2003. Est. Value—$45000. Archives Foreign | His Excellency Vladimir Putin, President of the Russian Federation | Non-acceptance would cause embarrassment to donor and U.S. Government.
President | Clothing: brown wool jacket with zipper front; traditional orange and black embroidered cap with multi-colored sequins; and 8′ x 3′ green, red, yellow and blue embroidered traditional scarf. Recd—October 1, 2003. Est. Value—$320. Archives Foreign | His Excellency Mir Zafarullah Khan Jamali, Prime Minister of the Islamic Republic of Pakistan | Non-acceptance would cause embarrassment to donor and U.S. Government.
| Household item: 6′ x 9′3″ wool rug with navy blue, red and gold pattern. Recd—October 1, 2003. Est. Value—$1650. Archives Foreign
President | Photograph: 9½″ x 7″ photograph of President Bush and President Arroyo; held in a 10½″ x 11½″ wooden frame with the presidential seal of the Philippines in silver. Recd—October 18, 2003. Est. Value—$300. Archives Foreign | Her Excellency Gloria Macapagal-Arroyo, President of the Republic of the Philippines and Mr. Jose Miguel Arroyo | Non-acceptance would cause embarrassment to donor and U.S. Government.
President | Miscellaneous: 8½″ x 13½″ gold neilloware urn with a plaque engraved “To the President of the United States of America. As a token of profound friendship and mutual understanding between our two countries and peoples. 19th October B.E. 2546 (2003)”. Recd—October 19, 2003. Est. Value—$200. Archives Foreign | His Majesty Bhumibol Adulyadej, King of Thailand | Non-acceptance would cause embarrassment to donor and U.S. Government.
| Photograph: 7½″ x 9½″ signed photograph of the King and Queen of Thailand; held in a 11½″ x 15¾″ sterling silver and golf leaf neilloware frame. Recd—October 19, 2003. Est. Value—$500. Archives Foreign |  |
President | Clothing (size L): lightweight khaki cotton jacket with a 1″ yellow goat embroidered on the upper left side. Recd—October 19, 2003. Est. Value—$129. Archives Foreign | Police General Sant Sarutanond, Commissioner General of the Royal Thai Police | Non-acceptance would cause embarrassment to donor and U.S. Government.
| Shirt (size L): teal silk long-sleeve dress shirt. Recd—October 19, 2003. Est. Value—$35. Archives Foreign |  |
| T-shirts (2, sizes L and XL): yellow cotton T-shirt with a brown and black goat printed on the front; and a yellow cotton T-shirt with a 1½″ German Shepherd embroidered on the upper left side. Recd—October 19, 2003. Est. Value—$15. Archives Foreign |  |
| Household items (7): white with gold trim porcelain Thai tea set, including a 10¼″ plate, five 2″ cups and an 8¼″ x 6″ tea pot. Recd—October 19, 2003. Est. Value—$250. Archives Foreign |  |
President | Miscellaneous: 16″ x 2″ silver filigree candelabra in the shape of a traditional Thai barge; held in a 24″ x 10½″ presentation case lined in blue felt with a clear plexiglass cover and a plaque engraved “Presented to The Honorable George W. Bush, President of the United States of America, and Mrs. Laura Bush, By His Excellency Dr. Thaksin Shinawatra, Prime Minister of Thailand.” Recd—October 19, 2003. Est. Value—$450. Archives Foreign | His Excellency The Prime Minister of the Kingdom of Thailand and Khunying Shinawatra | Non-acceptance would cause embarrassment to donor and U.S. Government.
President | Miscellaneous: 10″ x 4¼″ sterling silver filigree replica of a Philippine jeepney. Recd—October 20, 2003. Est. Value—$500. Archives Foreign | The Honorable Franklin M. Drilon, President of the Senate of the Philippines | Non-acceptance would cause embarrassment to donor and U.S. Government.
President | Tunic: purple, navy blue and gold traditional silk tunic lined in navy blue silk. Recd_October 20, 2003. Est. Value—$2200. Archives Foreign | His Excellency Thaksin Shinawatra, Prime Minister of the Kingdom of Thailand | Non-acceptance would cause embarrassment to donor and U.S. Government.
| Accessory: ¾″ 18K gold APEC logo lapel pin with diamond and ruby inlay. Recd—October 20, 2003. Est. Value—$450. Archives Foreign |  |
President | Artwork: 29″ x 23¼″ oil painting of a horse running; held in a 39½″ x 34″ gold-tone frame with canvas matting. Recd—October 22, 2003. Est. Value—$900. Archives Foreign | Her Excellency Megawati Soekarnoputri, President of the Republic of Indonesia | Non-acceptance would cause embarrassment to donor and U.S. Government.
President | Clothing (size XL): brown Driza-Bone oilskin coat. Recd—October 23, 2003. Est. Value—$310. Archives Foreign | The Honorable John Howard, Prime Minister of Australia | Non-acceptance would cause embarrassment to donor and U.S. Government.
President | Artwork: 20″ x 18″ red glass egg-shaped sculpture “Genesis,” with a 7″ x 7″ plaque engraved “Offered to the President of United States, George W. Bush by the President of Romania, Ion Iliescu, 2003 October,” by loan Nemtoi; with a 7″ x 40″ red glass cylindrical stand. Recd—October 28, 2003. Est. Value—$600. Archives Foreign | His Excellency, Ion Iliescu, President of Romania | Non-acceptance would cause embarrassment to donor and U.S. Government.
President | Miscellaneous: 10″ x 9½″ green and black malachite and heterogenite rock. Recd—November 5, 2003. Est. Value—$125. Archives Foreign | His Excellency, Joseph Kabila, President of the Democratic Republic of the Congo | Non-acceptance would cause embarrassment to donor and U.S. Government.
| Artwork: 15″ x 21″ oil painting of two deer-like figures with shells and cloth framing the center; held in a 17″ x 23″ wooden frame. Recd—November 5, 2003. Est. Value—$100. Archives Foreign
| Artwork: 21″ x 7″ dark wooden sculpture of two children lying next to a woman mounted on a 24″ x 16″ wooden base. Recd—November 5, 2003. Est. Value—$1200 Archives Foreign
President | Household item: 49″ x 72″ navy blue, pink and green ornate silk carpet. Recd—November 10, 2003. Est. Value—$1200. Archives Foreign | His Excellency, Atal Bihari Vajpayee, Prime Minister of the Republic of India | Non-acceptance would cause embarrassment to donor and U.S. Government.
President | Hardcover book: 13″ x 18″ book “Il Palazzi Del Quirnale (The Place of Quirinale),” by Louis Godart, with preface by President Carolo Azeglio Ciampi. Recd—November 14, 2003. Est. Value—$350. Archives Foreign | His Excellency, Carlo Azeglio Ciampi, President of the Italian Republic | Non-acceptance would cause embarrassment to donor and U.S. Government.
| Artwork: 15″ x 15″ black and white print of areas in ancient Rome, including the colosseum; held in a 27½″ x 27½″ gold-tone frame with ivory and grey matting. Recd—November 14, 2003. Est. Value—$900. Archives Foreign
President | Collectables (2): 15½″ x 13½″ desktop models of Marine One and the Royal British helicopters. Recd—November 18, 2003. Est. Value—$500. Archives Foreign | His Royal Highness, The Prince Andrew, Duke of York | Non-acceptance would cause embarrassment to donor and U.S. Government.
President | Miscellaneous: 13¼″ sterling silver ruler engraved “Presented by the Queen and The Duke of Edinburgh, To President George W. Bush on the occasion of his State Visit, November 2003,” with the Presidential Seal and the Royal Cypher on the front and the names of the 43 Presidents of the United States with the Presidential Seal on the back, made by Richard O.A. Jarvis. Recd——November 18, 2003. Est. Value—$450. Archives Foreign | Her Majesty Queen Elizabeth, and His Royal Highness The Prince Phillip, Duke Edinburgh | Non-acceptance would cause embarrassment to donor and U.S. Government.
President | Miscellaneous: 29½″ x 24″ wooden replica of the “Protecteur,” the sixty-four gun ship that launched for the United States in 1770, made by Gaetan de Chazal and Phillip Berrill. Recd—December 12, 2003. Est. Value—$550. Archives Foreign | Embassy of the Republic of Mauritius | Non-acceptance would cause embarrassment to donor and U.S. Government.
President | Consumables; assortment of edible items and two bottles of wine. Recd—December 30, 2003. Est. Value—$1000. Handled pursuant to Secret Service policy | His Majesty, Sultan Haji Hassanal Bolkiah Mu'izzaddin Waddaulah, Sultan and Yang Di-Pertuan of Brunei, Darussalam | Non-acceptance would cause embarrassment to donor and U.S. Government.
| Miscellaneous: 8½″ x 5½″ x 2″ Sovrani mahogany jewelry box with a sterling silver flora design, in relief, on lid. Recd—December 30, 2003. Est. Value—$400. Archives Foreign
| CDs (2): “An Old English Christmas,” produced by Craig Duncan; and “County Western Legends,” produced by Greg Howard. Recd—December 30, 2003. Est. Value—$30. Archives Foreign
| Consumable: 23 ounce Lady McDuffies Gourmet Lemon Cream Cheese Cake. Recd—December 30, 2003. Est. Value—$41. Handled pursuant to Secret Service policy
| Desk accessories (3): 5″ limited edition Montblanc Jules Verne Writer's Edition pen set, including a fountain pen, a ballpoint pen, and a mechanical pencil. Recd—December 30, 2003. Est. Value—$2838. Archives Foreign
| Household item: 6″ brown pillar candle with gold-tone reindeers in relief. Recd—December 30, 2003. Est. Value—$20. Handled pursuant to Secret Service policy
| Miscellaneous: 8″ x 10′ Sovrani silver and mahogany wood frame. Recd—December 30, 2003. Est. Value—$400. Archives Foreign
| Consumables: two dozen McDuffies Shortbread Cookies held in a 8″ x 7″ glass jar. Recd—December 30, 2003. Est. Value—$35. Handled pursuant to Secret Service policy
| Household item: 22″ x 20″ brown leather ottoman with a removable top. Recd—December 30, 2003. Est. Value—$2500. Archives Foreign
First Lady | Accessory: 6¼″ black silk Emily Jo Gibb evening bag with grey floral design and silver-tone handles. Recd—January 24, 2003. Est. Value—$400. Archives Foreign | The Right Honorable Tony Blair, M.P. United Kingdom | Non-acceptance would cause embarrassment to donor and U.S. Government.
First Lady | Flowers: dried Mongolian edelweiss flowers mounted under glass and held in a 6″ x 8¼″ blue wooden frame. Recd—March 19, 2003. Est. Value—$20. Archives Foreign | His Excellency The President of Mongolia and Mrs. A. Oyunbileg | Non-acceptance would cause embarrassment to donor and U.S. Government.
| Clothing: green Mongolian cashmere cape. Recd—March 19, 2003. Est. Value—$342. Archives Foreign
First Lady | Miscellaneous items from donor's charitable organization, Fondation Chantal Biya (5): two 2003 wall calendars, a 2003 date book with gilt-edged pages, a 3″ silver-tone key chain, and a 2¼″ silver-tone brooch with the outline of Africa beneath a red AIDS ribbon. Recd—March 31, 2003. Est. Value—$100. Archives Foreign. | The Honorable Chantal Biya, First Lady of the Republic of Cameroon | Non-acceptance would cause embarrassment to donor and U.S. Government.
| Household items: pair of white bone china demitasse coffee cups with seal of Cameroon, and matching saucers and silver spoons. Recd—March 31, 2003. Est. Value—$130. Archives Foreign
| Artwork: 27″ bronze sculpture of a female figure with a water vessel balanced on her head. Recd—March 31, 2003. Est. Value—$1750. Archives Foreign
| Jewelry: large bronze bracelet engraved with geometric figures. Recd—March 31, 2003. Est. Value—$500. Archives Foreign
First Lady | Collectables: three-piece set of Royal Crown Derby China giftware in the “Old Imari” pattern, including two 3¾″ decorative dishes and a 4½″ box with lid | Mrs. Cherie Blair, Office of the Prime Minister, United Kingdom | Non-acceptance would cause embarrassment to donor and U.S. Government.
First Lady | Jewelry: pair of 14mm South Sea pearl earrings set in 18K yellow gold, accompanied by wooden stand and 12″ x 19″ framed explanatory certificate. Recd—May 19, 2003. Est. Value—$2500. Archives Foreign | Her Excellency Gloria Macapagal-Arroyo, President of the Republic of the Philippines and Mr. Jose Miguel Arroyo | Non-acceptance would cause embarrassment to donor and U.S. Government.
| Miscellaneous item: 13″ x 4″ x9½″ burl wood jewelry box with removable top tray and seal of the Philippines on lid. Recd—May 19, 2003. Est. Value—$280. Archives Foreign
| Hardcover books (5): “Philippine Civics: How We Govern Ourselves,” by Conrado Benitez; “Language Lessons,” by Sidney C. Newsom; “Character and Conduct,” by Sofia R. De Veyra; “Philippine Arithmetics,” by Honorio Poblador, et. al.; and “Philippine School Geography,” by H. Justin Roddy and David Gibbs. Paperback book: “Bearers of Benevolence: The Thomasites and Public Education in the Philippines,” by Mary Racelis and Judy Celine Ick. Miscellaneous item: 12½″ x 15¾″ framed explanatory certificate, with wooden stand. Recd—May 19, 2003. Est. Value—$120. Archives Foreign
First Lady | Box: 10″ x 5″ x 7″ black lacquer jewelry box with pink and gold floral design. Recd—May 22, 2003. Est. Value—$288. Archives Foreign | His Excellency, Junichiro Koizumi, Prime Minister of Japan | Non-acceptance would cause embarrassment to donor and U.S. Government.
First Lady | Miscellaneous item: 6½″ painted wooden egg celebrating the 300th anniversary of St. Petersburg and containing a cream-colored 14″ round crocheted doily and 68″ x 28″ matching table runner. Recd—May 28, 2003. Est. Value—$200. Archives Foreign | His Excellency, The President of the Russian Federation and Mrs. Putina | Non-acceptance would cause embarrassment to donor and U.S. Government.
First Lady | Jewelry: matched set of diamond and sapphire jewelry, including earrings, bracelet, ring and necklace; held in a green leather presentation case. Recd—June 3, 2003. Est. Value—$95,500. Archives Foreign | His Royal Highness, Abdallah bin Abd al-Aziz Al Saud Crown Prince, First Deputy Prime Minister and Commander of the National Guard of Saudi Arabia | Non-acceptance would cause embarrassment to donor and U.S. Government.
First Lady | Accessory: 8 ¾″ sterling silver handbag with floral motif; held in a red silk presentation case. Recd—June 10, 2003. Est. Value—$1500 | His Excellency, Thaksin Shinawatra, Prime Minister of the Kingdom of Thailand | Non-acceptance would cause embarrassment to donor and U.S. Government.
| Fabric: 182″ x 40½″ mauve silk heavily embroidered with gold thread; held in a blue silk presentation case. Recd—June 10, 2003. Est. Value—$400. Archives Foreign
First Lady | Jewelry: 15″ necklace and 1¾ earrings made of peridot and amethyst set in 22K gold. Recd—June 24, 2003. Est. Value—$650. Archives Foreign | Mrs. Sehba Musharraf, First Lady of the Islamic Republic of Pakistan | Non-acceptance would cause embarrassment to donor and U.S. Government.
First Lady | Household accessory: 16″ purple and green crystal vase in a contemporary design by Adam Jablonski. Recd—June 26, 2003. Est. Value—$365. Archives Foreign | Mrs. Aleksandra Miller, Office of the Prime Minister of the Republic of Poland | Non-acceptance would cause embarrassment to donor and U.S. Government.
First Lady | Table linens: 4 white linen napkins with fruit embroidered in one corner and 4 matching placemats with more elaborate embroidery. Recd—July 8, 2003. Est. Value—$120. Archives Foreign | His Excellency, The President of the Republic of Senegal and Mrs. Wade | Non-acceptance would cause embarrassment to donor and U.S. Government.
First Lady | Artwork: 20½″ ceramic fertility statue of pregnant woman; held in a brown tooled leather presentation case. Recd—July 8, 2003. Est. Value—$425. Archives Foreign | Mrs. Viviane Wade, Office of the President of the Republic of Senegal | Non-acceptance would cause embarrassment to donor and U.S. Government.
First Lady | Home accessory: 41″ x 60″ mohair wall hanging depicting a village scene with children; with fringed end and loops for hanging. Recd—July 10, 2003. Est. Value—$225. Archives Foreign | Mrs. Barbara Mogae, Office of the President of the Republic of Botswana | Non-acceptance would cause embarrassment to donor and U.S. Government.
| Craft 15¼″ handwoven basket with intricate design in brown, caramel, and cream; accompanied by display stand and brass presentation plaque engraved “With the compliments of the First Lady of the Republic of Botswana, Mrs. Barbara Mogae.”
First Lady | Housewares (3): rectangular nesting dishes (12¼″ x 6¾″, 9¾″ x 4¾″, and 8″ &times 4&Prime;) made of blocks of mother-of-pearl. Recd—July 11, 2003. Est. Value—$200. Archives Foreign | The Honorable and Mrs. Franklin M. Drilon, Office of the Senate, President, Republic of the Philippines | Non-acceptance would cause embarrassment to donor and U.S. Government.
| Accessory: 23″ x 22″ panuelo (traditional Filipino shoulder wrap) with embroidered floral motif and mother-of-pearl flowers. Recd—July 11, 2003. Est. Value—$104. Archives Foreign
First Lady | Home accessories: 88″ x 90″ yellow and blue bed spread with three matching 16″ x 16″ pillow shams. Recd—July 12, 2003. Est. Value—$350. Archives Foreign | Mrs. Stella Obassanjo, First Lady of the Federal Republic of Nigeria | Non-acceptance would cause embarrassment to donor and U.S. Government.
First Lady | Bowl: 11¾″ handcut lead Bohemian crystal bowl. Recd—July 15, 2003. Est. value—$224. Archives Foreign | Mrs. Viktoria Spidlova, Office of the Prime Minister of the Czech Republic | Non-acceptance would cause embarrassment to donor and U.S. Government.
| Paperback book and companion CD-Rom: “Under the Torch of the Modern Era: The First Two Centuries of Book-Printing in Bohemia,” by Miroslava Hejnova, et. al. Recd—July 15, 2003. Est. Value—$40. Archives Foreign |  |
| Accessory: 9″ x 4½″ black suede clutch with jet beadwork. Recd—July 15, 2003. Est. Value—$120. Archives Foreign |  |
| Hardcover book: in Czech, regarding Prague's history. Paperback book and companion CD-ROM: “Persian Manuscripts in the National Library of the Czech Republic,” by Michal Farek. Recd—July 15, 2003. Est. Value—$60. Archives Foreign |  |
| Leather and clothbound book: reproduction of an illuminated Latin manuscript. Recd—July 15, 2003. Est. Value—$160. Archives Foreign
First Lady | Jewelry: silver Damiani choker necklace with 3.12 carats of diamonds in three tiers. Recd—July 21, 2003. Est. Value—$7500. Archives Foreign | His Excellency Silvio Berlusconi, President of the Council of Ministers of the Italian Republic | Non-acceptance would cause embarrassment to donor and U.S. Government.
First Lady | Household item: 7½″ sterling silver dish with commemorative medallion embedded in center Recd—September 5, 2003. Est. Value—$350. Archives Foreign | First Lady Margot Klestil-Loeffler, Office of the President of the Republic of Austria | Non-acceptance would cause embarrassment to donor and U.S. Government.
First Lady | Accessory: 52″ x 52″ blue silk and cashmere Hermes scarf with scroll pattern. Recd—September 29, 2003. Est. Value—$760. Archives Foreign | His Excellency Jacques Chirac, President of the French Republic | Non-acceptance would cause embarrassment to donor and U.S. Government.
First Lady | Household item: 17¾″ double candlestick of blue glass set in rough stone base; held in a blue leather presentation case. Recd—October 1, 2003. Est. Value—$350. Archives Foreign | Mrs. Bella Kocharyan, Office of the President of the Republic of Armenia | Non-acceptance would cause embarrassment to donor and U.S. Government.
First Lady | Hardcover book: “Patrimonio Dominicano,” by Cesar Ivan Feris Iglesias; inscribed by donor. Recd—October 15, 2003 Est. Value—$40. Archives Foreign | Her Excellency Rosa Gomez de Mejia, First Lady of the Dominican Republic | Non-acceptance would cause embarrassment to donor and U.S. Government.
| Miscellaneous: 3½″ x 3½″ yellow ceramic music box in the shape of an island home. Recd—October 15, 2003. Est. Value—$75 Archives Foreign |  |
| Miscellaneous: 3″ x 4½ black leather credit card case stamped “Codetel” in the lower corner. Recd—October 15, 2003. Est. Value—$52. Archives Foreign |  |
| Miscellaneous: 9¼″ x 6″ wooden box with a silver design in relief on lid and feet. Recd—October 15, 2003. Est. Value—$75. Archives Foreign |  |
| Accessory: 62″ x 20″ pink silk scarf with blue dots and yellow stars. Recd—October 15, 2003. Est. Value—$70. Archives Foreign |  |
| Accessory: 23″ x 80″ ivory silk shawl with amber and coral beads. Recd—October 15, 2003. Est. Value—$125. Archives Foreign |  |
| Artwork: 24″ x 20″ oil painting, “Jardin Japones,” of an abstract garden, by Gerad Ellis; held in a 24½″ x 20½″ gold-tone frame. Recd—October 15, 2003. Est. Value—$150. Archives Foreign |  |
First Lady | Miscellaneous: 14″ x 19″ retractable paper and bamboo Japanese fan with red and white origmai cranes, by matazo Kayama; held on a 10¾″ x 3″ wooden rest. Recd—October 18, 2003. Est. Value—$3000. Archives Foreign | His Excellency Junichiro Koizumi Prime Minister of Japan | Non-acceptance would cause embarrassment to donor and U.S. Government.
First Lady | Jewelry (5): 20″ copper and pearl “tamborin” traditional Filipina costume necklace; 2″ copper and pearl dangle earringss; 3″ copper and pearl decorative comb; adjustable copper and pearl ring; and 8″ copper and pearl bracelet. Recd—October 18, 2003. Est. Value—$100. Archives Foreign | Mrs. Georgina P. de Venecia, Republic of the Philippines | Non-acceptance would cause embarrassment to donor and U.S. Government.
| Miscellaneous: 5¼″ x 5″ miniature beige pinya fiber blouse and skirt; held in a 9¼″ x 9″ wooden frame with brown matting. Recd—October 18, 2003. Est. Value—$80. Archives Foreign
| Clothing (size XL): ivory pinya fiber jacket with delicate pearl beading and embroidery. Recd—October 18, 2003. Est. Value—$150. Archives Foreign
| Accessory: 7½″ pinya fiber beaded evening bag with a silver-tone drawstring and beaded handle. Recd—October 18, 2003. Est. Value—$60. Archives Foreign
| Accessory: 9″ retractable pinya fiber and bamboo fan. Recd—October 18, 2003. Est. Value—$40. Archives Foreign
First Lady | Miscellaneous: 3″ x 4″ gold and silver neilloware apple-shaped box with diamond inlay; held on a 3 ½″ round black stand. Recd—October 19, 2003. Est. Value)—$3500. Archives Foreign | Her Majesty Queen Sirikit of Thailand | Non-acceptance would cause embarrassment to donor and U.S. Government.
| Miscellaneous: 40″ x 22′ blue and grey woven Thai fabric. Recd—October 19, 2003. Est. Value—$400. Archives Foreign
First Lady | Accessory: 7½″ x 5 ¼″ gold and black neilloware shell-shaped evening bag. Recd—October 20, 2003. Est. Value—$75. Archives Foreign | Khunying Potjaman Shinawatra, Office of the Prime Minister of the Kingdom of Thailand | Non-acceptance would cause embarrassment to donor and U.S. Government.
| Accessory: 7½″ x 4½″ oval-shaped hand woven black evening bag with an 18K gold handle and a diamond inlay clasp. Recd—October 20, 2003. Est. Value—$2500. Archives Foreign
First Lady | Accessory: 7½″ x 3¾″ Adori kangaroo and emu black leather wallet. Recd—October 21, 2003. Est. Value—$70. Archives Foreign | Mrs. Janette Howard, Australia | Non-acceptance would cause embarrassment to donor and U.S. Government.
| Hardcover book: “Black Kettle and Full Moon,” by Geoffrey Blainey; signed by author. Recd—October 21, 2003. Est. Value—$45. Archives Foreign
| Hardcover book: “Australia: 300 Years of Botanical Illustration,” by Helen Hewson; signed by author. Recd—October 21, 2003. Est. Value—$65. Archives Foreign
| Hardcover book: cloth covered collector's edition (332/375) “Australia: 300 Years of Botanical Illustration,” by Helend Hewson; signed by author. Recd—October 21, 2003. Est. Value—$268. Archives Foreign
| Clothing (size M): brown Driza-Bone oilskin coat. Recd—October 21, 2003. Est. Value—$310. Archives Foreign
First Lady | Miscellaneous (3): 41½″ x 86″ and 35″ x 82″ brown, khaki, olive and black cotton detailed batiks, by KRJ. Daud Wiryo Hadinagoro. Recd—October 22, 2003. Est. Value—$300. Archives Foreign | Her Excellency Megawati Soekarnoputri, President of the Republic of Indonesia | Non-acceptance would cause embarrassment to donor and U.S. Government.
| Jewelry: 3″ round sterling silver brooch with a pearl in the center accompanied by matching 1″ round sterling silver earrings; held in a 5½″ x 6½″ brown lacquer presentation box. Recd—October 22, 2003. Est. Value—$148. Archives Foreign
First Lady | Hardcover book: “The Hassan II Mosque,” edited by Daniel Briand. Recd—November 17, 2003. Est. Value—$55. Archives Foreign | His Majesty Mohammed VI, King of Morocco | Non-acceptance would cause embarrassment to donor and U.S. Government.
| Hardcover book: “Interieurs Marocains (Moroccan Interiors),” by Lisa Lovatt-Smith. Recd—November 17, 2003. Est. Value—$40. Archives Foreign
| Hardcover book: “Marrakesh: The Secret of its Courtyard Houses,” by Michel Lebrun and Quentin Wilbaux. Recd—November 17,2003. Est. Value—$95. Archives Foreign
| Paperback book: “The Imperial Cities of Morocco,” by Mohamed Metalsi, Jean-Michel Ruiz and Cecile Treal. Recd—November 17, 2003. Est. Value—$28. Archives Foreign
| Hardcover book: limited edition (1069/1500) “Enluminures (Illuminations),” by Mohamed Sijelmassi with red felt binding. Recd—November 17, 2003. Est. Value—$110. Archives Foreign
First Lady | Miscellaneous: 7″ x 3¾″ Linley wooden jewelry box lined in blue suede with rosewood inlay of the Royal Cypher. Recd—November 18, 2003. Est. Value—$523. Archives Foreign | Her Majesty Queen Elizabeth II and His Royal Highness The Prince Phillip, Duke of Edinburgh | Non-acceptance would cause embarrassment to donor and U.S. Government.
First Family | Consumables: Dean & DeLuca products. Recd—January 2, 2003. Est. Value—$540. Handled pursuant to Secret Service policy | His Excellency Badr Omar Al-Dafa, Ambassador of the State of Qatar | Non-acceptance would cause embarrassment to donor and U.S. Government.
| Household item: maroon coffee mug with logo of Qatar printed on side. Recd—January 2, 2003. Est. Value—$15. Archives Foreign
| Baskets (2): 19½″ round wicker basket with handles and 19″ x 8″ lidded wicker basket. Recd—January 2, 2003. Est. Value—$45. Archives Foreign
First Family | Box: 2¾″ 24K gold-plated “gold dust box,” with a lid decorated with small birds. Recd—January 24, 2003. Est. Value—$25. Archives Foreign | His Excellency Kofi A. Annan, Secretary General of the United Nations | Non-acceptance would cause embarrassment to donor and U.S. Government.
| Desk accessory: 3½″ Tiffany glass paperweight with the logo of the United Nations etched in the center. Recd—January 24, 2003. Est. Value—$445. Archives Foreign
First Family | Household items (2): pair of matching white porcelain lidded boxes with green glazed design. Recd—May 14, 2003. Est. Value—$300. Archives Foreign | His Excellency Roh Moo-hyun, President of the Republic of Korea and Mrs. Kwon Yang-suk | Non-acceptance would cause embarrassment to donor and U.S. Government.
First Family | Tableware (10 sets): 2″ china cups and 5¾″ saucers commemorating the 300th anniversary of St. Petersburg, Russia, decorated with gold trim and hand painted scenes of the city. Recd—May 28, 2003. Est. Value—$1000. Archives Foreign | His Excellency The President of the Russian Federation and Mrs. Putina | Non-acceptance would cause embarrassment to donor and U.S. Government.
First Family | Hardcover book: leatherbound volume with silver-edged pages, in Russian, celebrating the 300th anniversary of St. Petersburg; held in a blue leather case. Recd—May 28, 2003. Est. Value—$300. Archives Foreign | His Excellency Vladimir Putin President of the Russian Federation | Non-acceptance would cause embarrassment to donor and U.S. Government.
First Family | Jewelry: Bvlgari white gold necklace, ring, and earring set of pearls and diamonds. Recd—June 3, 2003. Est. Value—$8500. Archives Foreign | His Royal Highness Abdallah bin Abd al-Aziz Al Saud, Crown Prince, First Deputy Prime Minister and Commander of the National Guard of Saudi Arabia | Non-acceptance would cause embarrassment to donor and U.S. Government.
First Family | Jewelry: Bvlgari white gold necklace, ring, and earring set of diamonds and black onyx. Recd—June 3, 2003. Est. Value—$8000. Archives Foreign | His Royal Highness Abdallah bin Abd al-Aziz Al Saud, Crown Prince, First Deputy Prime Minister and Commander of the National Guard of Saudi Arabia | Non-acceptance would cause embarrassment to donor and U.S. Government.
First Family | Artwork: 15½″ metal sculpture of a man and woman, with a baby being held aloft in the palm of the man's hand; held in a brown tooled leather presentation case. Recd—July 8, 2003. Est. Value—$1875. Archives Foreign | His Excellency The President of the Republic of Senegal and Mrs. Wade | Non-acceptance would cause embarrassment to donor and U.S. Government.
First Family | Table linens: eight 15″ x 17″ orange cloth napkins and matching 100″ x 72″ orange, green and purple table cloth. Recd—July 10, 2003. Est. Value—$150. Archives Foreign | His Excellency Olusegun Obasanjo, President of the Federal Republic of Nigeria | Non-acceptance would cause embarrassment to donor and U.S. Government.
| Table linens: three 14″ x 14″ brown cloth napkins, three 14″ x 14″ red cloth napkins, one 12″ x 9½″ green, red, and purple tea cozy and six matching 16″ x 13″ placemats. Recd—July 10, 2003. Est. Value—$55. Archives Foreign
| Fabric: 21″ x 86″ and 28″ x 86″ pieces of purple and green woven fabric with fringed ends. Recd—July 10, 2003. Est. Value—$300. Archives Foreign
First Family | Artwork: 93½″ x 43″ oil painting of a river valley in Uganda; held in a 95½″ x 45½″ wooden frame. Recd—July 11, 2003. Est. Value—$8200. Archives Foreign | His Excellency Yoweri Kaguta Museveni President of the Republic of Uganda | Non-acceptance would cause embarrassment to donor and U.S. Government.
First Family | Artwork (2): 11¼″ x 11″ black and white watercolors of architectural details from the temples at Petra, by Anna Kudribshova; both are matted and held in 20¼″ x 19¼″ silver- and gold-tone frames. Recd—September 18, 2003. Est. Value—$1500. Archives Foreign | Their Majesties Kind Abdullah II and Queen Rania al Abdullah of the Hashemite Kingdom of Jordan | Non-acceptance would cause embarrassment to donor and U.S. Government.
First Family | Artwork: 36″ x 24″ oil painting of three elephants; held in a 44¾″ x 32½″ wooden frame with engraved presentation plaque on bottom. Recd—October 6, 2003. Est. Value—$1350. Archives Foreign | His Excellency The President of the Republic of Kenya and Mrs. Lucy Kibaki | Non-acceptance would cause embarrassment to donor and U.S. Government.
First Family | Household item: 28″ x 36″ 19th century antique wooden chest of drawers with ebony and bone inlay and silver keyplates. Recd—October 18, 2003. Est. Value—$2500. Archives Foreign | Her Excellency Gloria Macapagal-Arroyo, President of the Republic of the Philippines and Mr. Jose Miguel Arroyo | Non-acceptance would cause embarrassment to donor and U.S. Government.
First Family | Hardcover book: “APEC 2003 Commemorative BTS SkyTrain Tickets,” published by Bangkok Mass Transit System Public Company Limited; held in a 10″ x 10½″ black lacquer case printed “The Royal Barge Procession.” Recd—October 19, 2003. Est. Value—$80. Archives Foreign | His Excellency Thaksin Shinawatra, Prime Minister of the Kingdom of Thailand | Non-acceptance would cause embarrassment to donor and U.S. Government.
| Hardcover book: “Thailand from Space 2003,” published by Siam M&B Publishing Company. Recd—October 19, 2003. Est. Value—$50. Archives Foreign
| Hardcover book: “A Study of Thai Politics and History through the Mails,” by Anatchai Rattakul. Recd—October 19, 2003. Est. Value—$33. Archives Foreign
| Calendar: 14″ x 12″ Tourism Authority of Thailand calendar “Unseen Corner of Paradise” and prints of each month's featured photograph (12). Recd—October 19, 2003. Est. Value—$45. Archives Foreign
| Miscellaneous: 16″ x 12″ black leather briefcase with a gold-tone clasp printed “APEC, Thailand 2003.” Recd—October 19, 2003. Est. Value—$160. Archives Foreign
| Desk accessory: various sizes of stationery printed “Mr. George W. Bush” on ivory paper; held in a 14″ x 11½″ bird's eye maple wood box lined in beige suede. Recd—October 19, 2003. Est. Value—$125. Archives Foreign
| Accessory: 37″ x 94″ hand-woven burgundy silk brocade shawl, by Mr. Veratham Trakulngoenthai; held in a 14″ x 10½″ brown raw silk presentation box. Recd—October 19, 2003. Est. Value—$300. Archives Foreign
| Artwork: 19″ x 25″ oil portrait of President Bush, by unknown artist; held in a 24½″ x 30½″ wooden frame with canvas matting. Recd—October 19, 2003. Est. Value—$300. Archives Foreign
First Family | Hardcover book: red leather bound, limited edition copy of “Royal Treasures: A Golden Jubilee Celebration,” edited by Jane Roberts; held in a 11¼″ x 14¼″ red leather box imprinted with the Royal Cypher. Recd—November 18, 2003. Est. Value—$1200. Archives Foreign | Her Majest Queen Elizabeth II and His Royal Highness The Prince Phillip, Duke of Edinburgh | Non-acceptance would cause embarrassment to donor and U.S. Government.
First Family | Desk accessories: 5½″ x 5½″ ivory stationery; held in a 6″ x 6″ sterling silver note pad holder engraved with Arabic characters. Recd—December 4, 2003. Est. Value—$350. Archives Foreign | Their Majesties King Abdullah II and Queen Rania al Abdullah of the Hashemite Kingdom of Jordan | Non-acceptance would cause embarrassment to donor and U.S. Government.
| Desk accessory: 4″ x 3″ sterling silver oval paperweight. Recd—December 4, 2003. Est. Value—$150. Archives Foreign
| Desk accessory: 7″ sterling silver letter opener engraved with Arabic characters. Recd—December 4, 2003. Est. Value—$100. Archives Foreign
| Desk accessory: 11½″ feather fountain tip pen. Recd—December 4, 2003. Est. Value—$100. Archives Foreign
| Collectable: 8½″ x 8½″ Rosenthal white porcelain square plate with gold and blue intricate designs on the rim and an Arabic inscription in the center; stamped with the Royal cypher and the Quranic verse, Surrah II:115 on the back. Recd—December 4, 2003. Est. Value—$250. Archives Foreign
| Desk accessory: 11¼″ x 9″ mouse pad framed by sterling-silver engraved with Arabic characters. Recd—December 4, 2003. Est. Value—$250. Archives Foreign
First Family | Miscellaneous: 20½″ x 16″ white and brown leather chest with hinged lid; interior is padded and holds a two-tiered leather lined wood tray. Recd—December 18, 2003. Est. Value—$280. Archives Foreign | His Excellency Zine El-Abidine Ben Ali, President of the Republic of Tunisia | Non-acceptance would cause embarrassment to donor and U.S. Government.
| Consumables (10 pounds): Tunisian dates. Recd—December 18, 2003. Est. Value—$60. Handled pursuant to Secret Service policy
| Consumables (6): bottles of Les Vignes de Tanit wine (2 Rose, 2 Blanc, 2 Rouge), made in Tunisia. Recd—December 18, 2003. Est. Value—$48. Handled pursuant to Secret Service policy
| Consumables (8): liter bottles of Tunisian olive oil. Recd—December 18, 2003. Est. Value—$28. Handled pursuant to Secret Service policy
First Family | Miscellaneous: 12″ x 7½″ silver peacock. Recd—December 30, 2003. Est. Value—$500. Archives Foreign | His Excellency Lalit Mansingh, The Ambassador of India and Mrs. Mansingh | Non-acceptance would cause embarrassment to donor and U.S. Government.
Blakeman, Brad, Deputy Assistant to the President and Director of Appointments and Scheduling | Desk accessory: Mont Blanc Meisterstuck Solitaire Doue Black Silver Fountain Pen. Recd—June 4, 2003. Est. Value—$425. Transferred to the General Services Administration | His Majesty King Abdullah II of the Hashemite Kingdom of Jordan | Non-acceptance would cause embarrassment to donor and U.S. Government.
Card, Andrew H., Jr., Assistant to the President and Chief of Staff | Olive oil (4 bottles, 750ml each): “Jordan's Treasure” extra virgin olive oil with pourers held in custom wooden presentation cabinet with crest. Recd—June 10, 2003. Est. Value—$202. Government Property | His Majesty King Abdullah II of the Hashemite Kingdom of Jordan | Non-acceptance would cause embarrassment to donor and U.S. Government.
| Desk accessory: Mont Blanc “Meisterstuck Solitaire Doue” fountain pen with sterline silver cap and black base with Arabic engraving on cap. Recd—June 10, 2003. Est. Value—$470. Government Property
Card, Andrew H., Jr., Assistant to the President and Chief of Staff | Weapon: 13″ sheathed dagger in gold and silver inlaid design with ivory handle and gold chain for hanging on enclosed wooden display rack; held in green leather presentation box with crest on lid. Recd—June 10, 2003. Est. Value—$1500. Government Property | His Royal Highness Abdallah bin Abd al-Aziz Al Saud, Crown Prince, First Deputy Prime Minister and Commander of the National Guard of Saudi Arabia | Non-acceptance would cause embarrassment to donor and U.S. Government.
Card, Andrew H., Jr., Assistant to the President and Chief of Staff | Desk accessory: limited edition Mont Blanc “Marquise de Pompadour” fountain pen in ceramic enamel with 18K gold trim and nib. Recd—June 10, 2003. Est. Value—$4900. Government Property | His Highness Sheikh Hamad bin Khalifa Al Thani Amir of the State of Qatar | Non-acceptance would cause embarrassment to donor and U.S. Government.
Card, Andrew H., Jr., Assistant to the President and Chief of Staff | Desk accessory: 3½″ x 2¼″ amber mounted on an arched 6″ x 2½″ sterline silver paperweight etched with signature and state parliament building. Recd—June 10, 2003. Est. Value—$600. Government Property | His Excellency Aleksander Kwasniewski, President of the Republic of Poland | Non-acceptance would cause embarrassment to donor and U.S. Government.
Card, Andrew H., Jr., Assistant to the President and Chief of Staff | Household: porcelain tea service for two by Lomonosov, commemorating the 300th Anniversary of St. Petersburg, including a teapot, covered sugar bowl, two small cups with saucers and two cake plates hand decorated with gilt Greek key borders and floral design. Recd—June 10, 2003. Est. Value—$535. Transferred to the General Services Administration | His Excellency Vladimir Putin, President of the Russian Federation | Non-acceptance would cause embarrassment to donor and U.S. Government.
Card, Andrew H., Jr., Assistant to the President and Chief of Staff | Artwork: 17″ x 6½″ x 7½″ bronze Benin sculpture of a queen with headdress and neckrings, mounted on 4″ x 8″ x 5″ wooden base with plaque engraved “With Compliments of (donor)”. Recd—July 12, 2003. Est. Value—$3500. Government Property | His Excellency Olusegun Obasanjo, President of the Federal Republic of Nigeria | Non-acceptance would cause embarrassment to donor and U.S. Government.
Card, Andrew H., Jr., Assistant to the President and chief of Staff | Watch: Bvlgari “Rettangolo” stainless steel men's wristwatch with black face with automatic date inset at ‘6' and back engraved with model, serial number and “Il Presidente del Consiglio dei Ministri”. Recd—July 21, 2003. Est. Value—$3000. Government Property | His Excellency Silvio Berlusconi, President of the Council of Ministers of the Italian Republic | Non-acceptance would cause embarrassment to donor and U.S. Government.
Gottesman, Blake, Personal Aide to the President | Clothing: 2 lengths of batik cloth (122″ x 50″ ) and (54″ x 50″ ) for booboo robe in rust red, white and purple. Recd—July 8, 2003. Est. Value—$275. Government Property | His Excellency, Olusegun Obasanjo, President of the Federal Republic of Nigeria | Non-acceptance would cause embarrassment to donor and U.S. Government.
| Household: 16½″ x 14″ batik cotton placemat set for six with matching tea cozy in indigo, brown and white pattern with 3 indigo and 3 brown cotton brocade napkins. Recd—July 8, 2003. Est. Value—$55. Government Property
Hadley, Stephen, Assistant to the President and Deputy National Security Advisor | Artwork: 19″ x 29″ matted color photograph of Arabian horse “BJ Thee Mustafa, 9 Years Old”, signed by photographer Gigi Grasso, and held in a 29½″ x 39½″ frame. Recd—May 5, 2003. Est. Value—$250. Archives, Staff Gift | His Royal Highness, Abdallah bin Abd al-Aziz Al Saud, Crown Prince, First Deputy Prime Minister and Commander of the National Guard of Saudi Arabia | Non-acceptance would cause embarrassment to donor and U.S. Government.
| Hardcover Book: “Legacy of Saudi Arabia, a Tribute to His Royal Highness Abdallah bin Abd al-Aziz Al Saud and the Arabian Horses of the Kingdom,” by Cynthia Culbertson, with photographs by Gigi Grasso. Recd—May 5, 2003. Est. Value—$60. Archives, Staff Gift
| Paperweight: 3⅛″ round crystal, beveled edge paperweight etched with logo of the al Janadriya Farm on base. Recd—May 5, 2003. Est. Value—$50. Archives, Staff Gift
| Medallion: 2½″ gold-tone medallion embossed with logo of Al Janadriya Farm. Recd—May 5, 2003. Est. Value—$40. Archives Staff Gift
| Sculpture: 14½″ x 15½ x 4″ dapple grey Arabian horse dressed in royal colors (greens and gold), in standing position on a bronze base affixed to a 16″ x 7″ &times 1¾″ oval wood base. Recd—May 5, 2003. Est. Value—$3000. Archives, Staff Gift
Hadley, Stephen, Assistant to the President and Deputy National Security Advisor | Desk accessory: 6½″ x 4½″ sterling silver box with burl wood lining and royal coat of arms on lid with detailed design in pewter. Recd—June 13, 2003. Est. Value—$500. Government Property | His Royal Highness Crown Prince Vajiralongkorn Kingdom of Thailand | Non-acceptance would cause embarrassment to donor and U.S. Government.
Hagin, Joseph W., Assistant to the President and Deputy chief of Staff (Operations) | Clothing: 2 lengths of batik cloth (122″ x 50″) and (54″ x 50″) for booboo robe in orange, yellow, green, white and purple. Recd—July 12, 2003. Est. Value—$275. Government Property | His Excellency, Olusegun Obasanjo, President of the Federal Republic of Nigeria | Non-acceptance would cause embarrassment to donor and U.S. Government.
| Household: 16½″ x 14″ batik cotton placemat set for six with matching tea cozy in indigo, gold and green pattern with 3 gold and 3 green cotton brocade napkins. Recd—July 12, 2003. Est. Value—$55. Government Property
Haines, Mary A., Deputy Executive Secretary for Scheduling and Advance (National Security Council) | Desk accessory: Nino Cerruti designed pen set “ebonite noir with Iridium point” black and silver fountain pen and ballpoint pen, held in black leather box with royal crest. Recd—June 54, 2003. Est. Value—$496. Government Property | His Majesty, King Abdullah II of the Hashemite Kingdom of Jordan | Non-acceptance would cause embarrassment to donor and U.S. Government.
Jenkins, Gregory, Deputy Assistant to the President and Director of Advance | Desk accessory: Mont Blanc Meisterstuck Solitair Doue Black Silver Fountain Pen held in leather presentation box with crest on lid. Recd—June 4, 2003. Est. Value—$370. Government Property | His Majesty, King Abdullah II of the Hashemite Kingdom of Jordan | Non-acceptance would cause embarrassment to donor and U.S. Government.
McClellan, Scott, Deputy Assistant to the President and Deputy White House Press Secretary | Clothing: 2 lengths of batik cloth (122″ x 50″) and (54″ x 50″) for booboo robe in red, black, white and purple. Recd—July 11, 2003. Est. Value—$275. Government Property | His Excellency Olusegun Obasanjo, President of the Federal Republic of Nigeria | Non-acceptance would cause embarrassment to donor and U.S. Government.
| Household: 16½″ x 14″ batik cotton placemat set for six with matching tea cozy in indigo, red and black pattern with 3 red and 3 purple cotton brocade napkins. Recd—July 11, 2003. Est. Value—$55. Government Property
Rice, Condoleezza, Assistant to the President for National Security Affairs | Jewelry: ⅝″ platinum Damiani oval shape band bracelet with 3.79 carats of diamonds set in chevron design. Recd—January 30, 2003. Est. Value—$6500. Government Property | His Excellency Silvio Berlusconi, President of the Council of Ministers of the Italian Republic | Non-acceptance would cause embarrassment to donor and U.S. Government.
Rice, Condoleezza, Assistant to the President for National Security Affairs | Artwork: 23½″ x 31½″ oil painting of a street scene on canvas, signed by artist I. Ihthsse.97. Recd—February 10, 2003. Est. Value—$500. Government Property | His Excellency Lucio Guiterrez Borbua, President of the Republic of Ecuador | Non-acceptance would cause embarrassment to donor and U.S. Government.
Rice, Condoleezza, Assistant to the President for National Security Affairs | Household: 5¼″ x sterling silver vessel with handle, ilias LaLaoUNIS design inspired from the Mycenaen period (1480BC). Recd—February 27, 2003. Est. Value—$250. Government Property | His Excellency George Papandreou, Minister of Foreign Affairs of the Hellenic Republic | Non-acceptance would cause embarrassment to donor and U.S. Government.
| Accessory: 34″ Pagonis square silk scarf in blue, yellow and white design of the Hellenic Presidency of the EU. Recd—February 27, 2003. Est. Value—$200. Government Property
Rice, Condoleezza, Assistant to the President for National Security Affairs | Jewelry: 18K gold wide band ring with emerald surrounded by cubic zirconiums. Recd—March 4, 2003. Est. Value—$1000. Government Property | His Excellency Marshall Mohammed Fahim Khan, Minister of Defense of the Islamic Transitional State of Afghanistan | Non-acceptance would cause embarrassment to donor and U.S. Government.
Rice, Condoleezza, Assistant to the President for National Security Affairs | Rug: 45½″ x 61¼″ hand knotted silk carpet, with pattern in red, dark blue and ivory. Recd—April 15, 2003. Est. Value—$1400. Government Property | His Excellency Sodiq Safaev, Minister of Foreign Affairs of the Republic of Uzbekistan | Non-acceptance would cause embarrassment to donor and U.S. Government.
Rice, Condoleezza, Assistant to the President for National Security Affairs | Household item: silver serving set consisting of two round 2″ x 2″ boxes with lids, two 1″ x 4″ spoons and oval 6⅝″ x 3⅝″ tray etched with gold duck design. Recd—April 30, 2003. Est. Value—$500. Archives, Staff Gift | His Excellency Ra Jong-Yil, Senior Advisor to the President for National Security of the Republic of Korea | Non-acceptance would cause embarrassment to donor and U.S. Government.
Rice, Condoleezza, Assistant to the President for National Security Affairs | Jewelry set: earrings, necklace and ring of woven 21K gold wire inset with cubic zircons. Recd—May 7, 2003. Est. Value—$750. Government Property | Lt. General Ehsan Ul Haq, Director General, Inter-Services Intelligence of the Islamic Republic of Pakistan | Non-acceptance would cause embarrassment to donor and U.S. Government.
Rice, Condoleezza, Assistant to the President for National Security Affairs | Coins: set of 9 pure silver commemorative coins from Uzbekistan presented in rosewood box with brass medallion of national crest inset on top of box. Recd—May 12, 2003. Est. Value—$350. Archives, Staff Gift | Colonel General Rustam Rasylevich Inoyatov, Chief of Intelligence of the Republic of Uzbekistan | Non-acceptance would cause embarrassment to donor and U.S. Government.
Rice, Condoleezza, Assistant to the President for National Security Affairs | Wall plaque: 11″ silver charger etched with colonnade of ruins with a gold crown at the top of a wide rim. Recd—May 15, 2003. Est. Value—$500. Archives, Staff Gift | General Sa'ad Kheir, Director of the General Intelligence Department, Hashemite Kingdom of Jordan | Non-acceptance would cause embarrassment to donor and U.S. Government.
Rice, Condoleezza, Assistant to the President for National Security Affairs | Household: porcelain tea service for two by Lomonosov, commemorating the 300th Anniversary of St. Petersburg, including a teapot, covered sugar bowl, two small cups with saucers and two cake plates hand decorated with gilt Greek key borders and floral design. Recd—May 31, 2003. Est. Value—$535. Archives, Staff Gift | His Excellency Vladimir Putin, President of the Russian Federation | Non-acceptance would cause embarrassment to donor and U.S. Government.
Rice, Condoleezza, Assistant to the President for National Security Affairs | Olive oil (4 bottles, 750ml each): “Jordan's Treasure” extra virgin olive oil with pourers held in custom wooden presentation cabinet with crest. Recd—June 4, 2003. Est. Value—$202. Government Property | His Majesty King Abdullah II of the Hashemite Kingdom of Jordan | Non-acceptance would cause embarrassment to donor and U.S. Government.
| Desk accessory: Mont Blanc “Meisterstuck Solitaire Doue” fountain pen with sterling silver cap and black base, with Arabic engraving on cap. Recd—June 4, 2003. Est. Value—$470
Rice, Condoleezza, Assistant to the President for National Security Affairs | Jewelry: 2½″ platinum 16-petal flower of diamonds brooch with ½″ grey/white pearl center, designed by Stefan Hafner. Recd—June 5, 2003. Est. Value—$15500. Archives, Staff Gift | His Highness Sheikh Hamad bin Khalifa Al Thani Amir of the State of Qatar | Non-acceptance would cause embarrassment to donor and U.S. Government.
Rice, Condoleezza, Assistant to the President for National Security Affairs | Weapon: 13″ sheathed dagger in gold and silver inlaid design with ivory handle and gold chain for hanging on enclosed wooden display rack; held in green leather presentation box with crest on lid. Recd—June 10, 2003. Est. Value—$1500. Government Property | His Royal Highness Abdallah bin Abd al-Aziz Al Saud, Crown Prince, First Deputy Prime Minister and Commander of the National Guard of Saudi Arabia | Non-acceptance would cause embarrassment to donor and U.S. Government.
Rice, Condoleezza, Assistant to the President for National Security Affairs | Artwork: 5⅜″ x 9¼″ silver enameled peacock studded with semiprecious stones. Recd—June 13, 2003. Est. Value—$2500. Archives, Staff Gift | His Excellency Lal Krishna Advani, Deputy Prime Minister of the Republic of India | Non-acceptance would cause embarrassment to donor and U.S. Government.
Rice, Condoleezza, Assistant to the President for National Security Affairs | Artwork: Tuareg ornately tooled leather and silver (metal) hexagon shaped box, lined with maroon velvet, on leather pedestal with top nob in etched silver (metal) and mirror inside lid. Recd—June 23, 2003. Est. Value—$295. Archives, Staff Gift | His Excellency Amadou Toumani Toure, President of the Republic of Mali | Non-acceptance would cause embarrassment to donor and U.S. Government.
Rice, Condoleezza, Assistant to the President for National Security Affairs | Artwork: 6½″ x 3″ vermeil Holy Spirit Orchid, National Flower of Panama mounted on black velvet, double matted and held in a 12″ x 16″ shadow box. Recd—June 24, 2003. Est. Value—$500. Archives, Staff Gift | Her Excellency Mireya Moscoso, President of the Republic of Panama | Non-acceptance would cause embarrassment to donor and U.S. Government.
Rice, Condoleezza, Assistant to the President for National Security Affairs | Artwork: 17″ x 6½″ x 7½″ bronze Benin sculpture of a queen with headdress and neckrings, mounted on 4″ x 8″ x 5″ wooden base with plaque engraved “With Compliments of (donor)”. Recd—July 8, 2003. Est. Value—$3500. Government Property | His Excellency Olusegun Obasanjo, President of the Federal Republic of Nigeria | Non-acceptance would cause embarrassment to donor and U.S. Government.
Rice, Condoleezza, Assistant to the President for National Security Affairs | Household: 7½″ x 4″ silver Chil-bo cloisonne vase with pastoral scene in pastel colors on truquoise background. Recd—July 16, 2003. Est. Value—$500. Archives, Staff Gift | His Excellency Ra Jong-Yil, Senior Advisor to the President for National Security of the Republic of Korea | Non-acceptance would cause embarrassment to donor and U.S. Government.
Rice, Condoleezza, Assistant to the President for National Security Affairs | Jewelry: Damiani 18K gold and diamond (2.64 carats) “Snake” bracelet. Recd—July 21, 2003. Est. Value—$7500. Government Property | His Excellency Silvio Berlusconi, President of the Council of Ministers of the Italian Republic | Non-acceptance would cause embarrassment to donor and U.S. Government.
Rice, Condoleezza, Assistant to the President for National Security Affairs | Hardcover antique book: 8″ x 6¼″ x 2″ leatherbound “Historiam Evangelii . . . Renovati . . . Monumenta . . .”, by Daniele Gerdesio, in Latin from 1744. Recd—July 28, 2003. Est. Value—$1800. Archives, Staff Gift | His Excellency Ioan Talpes, Head of the National Security Department and Chief of the Presidential Administration, Romania | Non-acceptance would cause embarrassment to donor and U.S. Government.
Rice, Condoleezza, Assistant to the President for National Security Affairs | Artwork: 8″ x 6⅝″ x 4″ carved light green jade figural consisting of large fruit and reticulated monkey with a separate dark green round 8½″ x 3½″ x 4⅞″ jade stone base. Recd—August 19, 2003. Est. Value—$500. Government Property | The Honorable Chen Yunlin, Director, Taiwan Affairs Office Chinese Communist Party and State Council | Non-acceptance would cause embarrassment to donor and U.S. Government.
Rice, Condoleezza, Assistant to the President for National Security Affairs | Desk accessory: 5″ x 3½″ x 1″ Lalique Owl curved crystal desk clock with ¾″ silver trim face with owls in relief and signed “Lalique France”. Recd—September 23, 2003. Est. Value—$435. Government Property | His Excellency Brajesh Mishra, Principal Secretary to the Prime Minister and National Security Advisor, India | Non-acceptance would cause embarrassment to donor and U.S. Government.
Rice, Condoleezza, Assistant to the President for National Security Affairs | Desk accessory: 5½″ x 5½″ ivory stationery held in a 6″ x 6″ sterling silver note pad holder engraved with Arabic characters. Recd—December 4, 2003. Est. Value—$350. Government Property | Their Majesties King Abdullah II and Queen Rania al Abdullah of the Hasemite Kingdom of Jordan | Non-acceptance would cause embarrassment to donor and U.S. Government.
| Desk accessory: 11½″ silver trim black feather quill pen with metal nib. Recd—December 4, 2003. Est. Value—$100. Government Property
| Collectable: 8½″ x 8½″ Rosenthal white porcelain square plate with gold and blue intricate designs on the rim and an Arabic inscription in the center; stamped with the Royal cypher and the Quranic verse, Surah II:115 on the back. Recd—December 4, 2003. Est. Value—$250. Government Property
| Desk accessory: 11¼″ x 9″ mouse pad framed by sterling silver engraved with Arabic characters. Recd—December 4, 2003. Est. Value—$250. Government Property
Rice, Condoleezza, Assistant to the President for National Security Affairs | Artwork: 31″ x 15½″ silk embroidered picture of five peonies and butterflies with calligraphy in black in background; double matted and held in a 42½″ x 23½″ wood frame. Recd—December 9, 2003. Est. Value—$450. Government Property | His Excellency Wen Jiabao, Premier of the State Council of the People's Republic of China | Non-acceptance would cause embarrassment to donor and U.S. Government.
Rice, Condoleezza, Assistant to the President for National Security Affairs | Desk accessory: 18″ x 6½″ x 13″ slate grey composite BRICS attache case with brown leather trim, combination lock, beige suede and dark brown leather interior desk compartment and silk lined luggage compartment. Recd—December 19, 2003. Est. Value—$390. Government Property | His Highness Sheikh Sabah Al-Ahmed Al-Jaber Al-Sabah, Prime Minister of the State of Kuwait | Non-acceptance would cause embarrassment to donor and U.S. Government.
| Jewelry set: 20″ gold necklace: collar style 13″ with 4″ center piece 1½″ wide of ornate design and filigree graduating to ¾″ width, matching 9″ × ⅞″ band style bracelet, 1″ pierced earrings and 1″ ring held in a 9″ x 12″ x 2½″ blue leather presentation box. Recd—December 19, 2003. Est. Value—$3000. Government Property
Rice, Condoleezza, Assistant to the President for National Security Affairs | Household: 2¾″ x 11¾″ x 7⅝″ rectangular wooden box with fitted lid, decorated with inlaid geometric pattern in bone, ebony and other materials, with lacquer finish. Recd—December 23, 2003. Est. Value—$200. Government Property | Her Excellency Bouthaina Shaaban, Minister of Expatriate Affairs of the Syrian Arab Republic | Non-acceptance would cause embarrassment to donor and U.S. Government.
| Household: 54″ x 83″ pale green sheer table cloth and eight 12¾″ x 14¾″ napkins with white and gold embroidery. Recd—December 23, 2003. Est. Value—$150. Government Property
Tubb, Richard J., Col, USAF, Director, White House Medical Unit | Clothing: 2 lengths of batik cloth (122″ x 50″) and (54″ x 50″) for booboo robe in orange, indigo, white and turquoise. Recd—July 12, 2003. Est. Value—$275. Government Property | His Excellency Olusegun Obasanjo, President of the Federal Republic of Nigeria | Non-acceptance would cause embarrassment to donor and U.S. Government.
| Household: 16½″ x 14″ hand crafted green and white batik cotton brocade placemat set for 6 with matching tea cozy with green napkins. Recd—July 12, 2003. Est. Value—$55. Government Property

AGENCY: Office of the Vice President
Report of tangible gifts—2003
Name and title of person accepting the gift on behalf of the U.S. Government | Gift, date of acceptance on behalf of the U.S. Government, estimated value, and current disposition or location | Identity of foreign donor and government | Circumstances justifying acceptance
135974/BOYER_C, Mrs. Cheney | Eighteen sterling silver place card holders in the Banca, Bahay, Kubo, and Caraboao design. Recd—July 24, 2003. Est. Value—$500. Archives Foreign | Her Excellency Gloria Macapagal-Arroyo, President of the Republic of the Philippines | Non-acceptance would cause embarrassment to donor and U.S. Government.
135323/BOYER_C, Mrs. Cheney | Five strand pink coral necklace of irregular beads. Recd—June 21, 2003. Est. Value—$350. Archives Foreign | His Excellency Eugene Y. H. Chien, Minister of Foreign Affairs for Taiwan | Non-acceptance would cause embarrassment to donor and U.S. Government.
134571/BOYER_C, Mrs. Cheney | Samsonite metal suitcase on wheels, containing handmade one piece woman's robe of royal blue silk with attached organza-like overlay and gold embroidery and jewel work; two piece black brocade robe with braiding and hand embroidery; handmade white and orange two piece silk robe in a floral design; and handmade green one piece robe with jewel work and embroidery in a leaf design. Recd—June 10, 2002. Est. Value—$1101. Archives Foreign | His Highness Shaykh Zayid bin Sultan Al Nahayyan, President of the United Arab Emirates | Non-acceptance would cause embarrassment to donor and U.S. Government.
132568/BOYER_C, Vice President | Brass plated on tin wine service tray, ewer, and six small goblets. Engraved design on all pieces. Recd—February 26, 2003. Est. Value—$500. Archives Foreign | His Excellency Ilham Aliyev, President of the Republic of Azerbaijan | Non-acceptance would cause embarrassment to donor and U.S. Government.
132245/BOYER_C, Vice President | Sterling silver paperweight with large piece of amber in the center. Inscribed “Prezes Rady Ministrow Leszek Miller.” Recd—February 5, 2003. Est. Value—$500. Archives Foreign. | His Excellency Leszek Miller, Prime Minister of the Republic of Poland | Non-acceptance would cause embarrassment to donor and U.S. Government.
134695/BOYER_C, Vice President | 21 karat gold men's ring with a 3 carat emerald surrounded by cubic zirconia. Recd—March 4, 2003. Est. Value—$2500. Archives Foreign. | His Excellency Mohammad Fahim Kahn, Vice President and Defense Minister of Afghanistan | Non-acceptance would cause embarrassment to donor and U.S. Government.
134697/BOYER_C, Vice President | Hand painted blue and white porcelain wine decanter with Sterling silver stopper; on one side is small painting of a Portuguese artillery regiment, on the reverse the Portuguese crest. Recd—May 5, 2003. Est. Value—$400. Archives Foreign | His Excellency Paulo Portas, Minister of State and National Defense for Portugal | Non-acceptance would cause embarrassment to donor and U.S. Government.
135289/BOYER_C, Vice President | Round pottery vessel with white, blue, and brown glazing and a guava branch handle. Made by Iskandar Jalil, noted Singapore potter. Recd—May 5, 2003. Est. Value—$600. Archives Foreign | His Excellency Goh Chok Tong, Prime Minister of the Republic of Singapore | Non-acceptance would cause embarrassment to donor and U.S. Government.
137923/BOYER_C, Vice President | Crystal presentation piece with a golden bowl and silver fish design. Recd—October 30, 2003. Est. Value—$350. Archives Foreign | His Excellency Li Zhaoxing, Minister of Foreign Affairs of the People's Republic of China | Non-acceptance would cause embarrassment to donor and U.S. Government.
135971/BOYER_C, Vice President | Korean black lacquer ware box, with inset tray, inlaid with mother of pearl in a crane design. Recd—June 27, 2003. Est. Value—$350. Archives Foreign | His Excellency Yung-kil Cho, Minister of National Defense of the Republic of Korea | Non-acceptance would cause embarrassment to donor and U.S. Government.
139525/BOYER_C, Vice President | Wood and leather box containing a quill pen, brown leather strips with attached beads, Rosenthal square porcelain plate, and sterling silver desk set (memo pad holder, paperweight, letter opener, and silver frame for mouse pad). Recd—December 8, 2003. Est. Value—$1150. Archives Foreign | His Majesty King Abdullah II bin al Hussein of the Hashemite Kingdom of Jordan | Non-acceptance would cause embarrassment to donor and U.S. Government.
135974/BOYER_C, Vice President | Black mother of pearl cufflinks set in 18 karat white gold. Recd—July 24, 2003. Est. Value—$350. Archives Foreign. | Her Excellency Gloria Macapagal-Arroyo, President of the Republic of the Philippines | Non-acceptance would cause embarrassment to donor and U.S. Government.
133992/BOYER_C, Vice President | Silk rug in colors of beige, cream, navy, peach and golden brown; measures 49 inches by 100 inches. Recd—April 16, 2003. Est. Value—$2200. Archives Foreign | His Excellency Sodiqu Safayev, Minister of Foreign Affairs of the Republic of Uzbekistan | Non-acceptance would cause embarrassment to donor and U.S. Government.
138985/MURRAY_M, Vice President and Mrs. Cheney | A large white poinsettia and four dozen white roses. Recd—December 15, 2003. Est. Value—$360. Handled pursuant to Secret Service policy | His Royal Highness Prince Bandar bin Sultan bin Abdulaziz, Royal Embassy of Saudi Arabia | Non-acceptance would cause embarrassment to donor and U.S. Government.
135982/BOYER_C, Vice President Staff | Blue and white porcelain plate made by Javin, Royal-Kwangju. Given to Steve Yates. Recd—July 24, 2003. Est. Value—$350. General Services Administration | Hak Kyu Sohn, Governor of Gyeonggi Province, Republic of Korea | Non-acceptance would cause embarrassment to donor and U.S. Government.

AGENCY: Executive Office of the President, Office of Science and Technology Policy
Report of Travel or Expenses of Travel
Name and title of person accepting travel or travel expenses consistent with the interests of the U.S. Government | Brief description and estimated value of travel or travel expenses accepted as consistent with the interests of the U.S. Government and occurring outside the United States | Identity of foreign donor and government | Circumstances justifying acceptance.
David Halpern | Recd.—July 12, 2003. Est. Value—$4,264. Expended for airfare, lodging, ground transportation and meals | University of Western Australia, Perth, Australia | Keynote address at the International Weather Conference.
Kathie L. Olsen | Recd.—July 30, 2003. Est. Value—$477. Expended for airfare | Norwegian Research Council, Oslo, Norway | To attend the International Conference on Research of Climate Changes of the Arctic. Olsen had purchased the roundtrip ticket from Oslo to Svalbard through the travel agent for the meeting. When she received the ticket in the mail, her return flight that the travel agency booked to Oslo left Svalbard at 4 am. This was a miscommunication given that she had a series of meetings starting at 9 am in Oslo on the day of the flight. Upon arriving in Oslo, she contacted Scandinavian Airline Service (SAS) and was informed that there were other flights between Svalbard and Oslo that were available. Dr. Olsen requested the change in flight directly with SAS. The meeting organizers contacted SAS in her behalf and she was told that it was impossible to change the ticket. The Organizers of the Meeting proceeded to make a new reservation. When she spoke with the Council, she was informed that the same mistake had been made with other attendees' flight arrangements. The Council made arrangements to change the ticket and refused payment.

Office of the U.S. Trade Representative, Executive Office of the President
Report of certain foreign gifts: Calendar Year 2003
Name of recipient | Item description and disposition | Foreign donor | Authority
Amb. Robert B. Zoellick, U.S. Trade Representative | Woven rug, 06/09/03, $500-$1000. Displayed in formal reception area | Minister Khan, Pakistan | 5 U.S.C. 7342 protocol.
Amb. Robert B. Zoellick | Silver Tea Set, 09/19/03, $1000-$1500. Displayed in head of agency's meeting area | Minister Dinh Tuyen, Vietnam | 5 U.S.C. 7342 protocol.

AGENCY: United States Department of Agriculture
Report of Tangible Gifts—CY 2003
Name and title of person accepting gift on behalf of the U.S. Government | Gift, date of acceptance on behalf of the U.S. Government, estimated value, and current disposition or location | Identity of the foreign donor and government | Circumstances justifying acceptance
Dr. J.B. Penn, Under Secretary, Farm and Foreign Agricultural Services, USDA | Hand knotted silk pile directional decorative rug. Tree of Life pattern on pale yellow ground with seven blue birds in the branches of the tree. Arched central panel with major border with white ground and trailing floral design. Long looped beginning white silk fringes and cut end fringes. Dimensions: 26″ x 35.″ November 11, 2003; Appraised value: $600.00. Location: Retained as an official gift in Dr. Penn's office | Mr. Anwari, Afghanistan Minister of Agriculture | Non-acceptance would have caused embarrassment to donor and U.S. Government.
Ann M. Veneman, U.S. Secretary of Agriculture | A turned wood vase with tapering stem and neck in black lacquer with painted gilt decoration. The ovoid body is painted with scenes of buildings with sky and trees. An unidentified signature appears in the scene. Height 22″; Diameter of base 8″. June 19, 2003; appraised value: $350.00. Location: USDA/FAS Foreign Visitors Office for transfer to GSA's Property Management Div | Sergii Ryzhuk, Minister, Ministry of Agricultural Policy, Ukraine | Non-acceptance would have caused embarrassment to donor and U.S. Government.
Ann M. Veneman, U.S. Secretary of Agriculture | A contemporary carved African hardwood statute of a male hunter with a beard, bow, arrow, pouch and an animal over his shoulder. Base with small animal standing at his feet. Ht. 27½″; Base width 7½″;. June 19, 2003; Appraised value: $1,375.00. Location USDA/FAS Foreign Visitors Office to be transferred to GSA's Property Management Division | Mr. Joaquim Da Costa DAVIDE, Minister of Industry, Angola | Non-acceptance would have caused embarrassment to donor and U.S. Government.
Ann M. Veneman, U.S. Secretary of Agriculture | Amber necklace and earrings: A four strand amber necklace, of varied shaped stones, 10″ long. With a pair of stud earrings of a single stone each. In a red fitted box with label: “Rep. Dominicana, Eligio Arguez, Doyas Criollas Sa.” June 20, 2003; Appraised value $500.00. Location USDA/FAS Foreign Visitors Office for transfer to GSA's Property Mgt. Division | Mr. Eligio Jaquez, Secretary of Agriculture, Dominican Republic | Non-acceptance would have caused embarrassment to donor and U.S. Government.

AGENCY: Department of the Treasury
Report of Tangible Gifts
Name and title of person accepting gift on behalf of the U.S. Government | Gift, date of acceptance on behalf of the U.S. Government, estimated value, and current disposition or location | Identify of foreign donor and government | Circumstances justifying acceptance
Kenneth W. Dam, Deputy Secretary | Candle holder from the Swarovski Collection. Recd—January 25, 2003. Est. Value—$390. Treasury retained on February 13, 2003 | World Economic Forum, Government of Switzerland | Non-acceptance would have caused embarrassment to donor & U.S. Government.
John W. Snow, Secretary of Treasury | 5′ x 7′ Dark red/blue Persian carpet. Recd—February 26, 2003. Est. Value—$900. Treasury retained on August 5, 2003 | Hamid Karzai, President of Afghanistan | Non-acceptance would have caused embarrassment to donor & U.S. Government.
John W. Snow, Secretary of Treasury | Silver kanjar (dagger) in holder. Recd—May 21, 2003. Est. Value—$300. Treasury retained on July 31, 2003 | Shaikh Salman Bin Hamad Bin Isa Al-Khai Crown Prince of Bahrain | Non-acceptance would have caused embarrassment to donor & U.S. Government.
John B. Taylor, Under Secretary for International Affairs | Set of sterling silverware for 6. Recd—May 5, 2003. Est. Value—$780. Treasury retained on December 23, 2003 | Islam A. Karimov, President, Republic of Uzbekistan | Non-acceptance would have caused embarrassment to donor & U.S. Government.

Department of Defense
Foreign Gifts for State
Name and title of person accepting gift on behalf of the U.S. Government | Gift | Identity of foreign donor and government | Circumstances justifying acceptance
The Honorable Donald H. Rumsfeld, Secretary of Defense | Silver Bulgari Watch, Book “Omaggio all'Italia” and Magazine “An Italian Story”, 1/14/2003. $1,200.00, $15.00 and No Value, respectively. Total Value $1,215.00. Transferred to GSA | His Excellency Silvio Berlusconi, Prime Minister, Italy | Non-acceptance would cause embarrassment to donor and U.S. Government.
The Honorable Donald H. Rumsfeld, Secretary of Defense | Silver Decanter and Four Silver Cups with Silver Platter, Gold Bracelet and Book “Egypt—the World of Pharaohs”, 1/14/2003, 240.00, $385.00 and $20.00, respectively. Total Value $625.00. Transferred to GSA | His Excellency Hussein Tantawy, Minister of Defense and Military Production, Egypt | Non-acceptance would cause embarrassment to donor and U.S. Government.
The Honorable Donald H. Rumsfeld, Secretary of Defense | Large Rug 58″ x 94″, 2/27/2003, $400.00. Transferred to GSA | His Excellency Hamad Karzai, President, Afghanistan | Non-acceptance would cause embarrassment to donor and U.S. Government.
The Honorable Donald H. Rumsfeld, Secretary of Defense | Gold Horse on Statue, 4/29/2003, $700.00. Transferred to GSA | His Royal Highness Crown Prince Abdallah bin Abd Al-Aziz Al Saud, First Deputy Prime Minister, Saudi Arabia | Non-acceptance would cause embarrassment to donor and U.S. Government.
The Honorable Donald H. Rumsfeld, Secretary of Defense | Silver Oasis in Box, 4/29/2003, $320.00. Transferred to GSA | His Excellency Sultan bin Abd al-Aziz Al Saud, Minister of Defense and Aviation, Saudi Arabia | Non-acceptance would cause embarrassment to donor and U.S. Government.
The Honorable Donald H. Rumsfeld, Secretary of Defense | Carpet, 9/5/2003, $850.00. Transferred to GSA | His Excellency Hamad Karzai, President, Afghanistan | Non-acceptance would cause embarrassment to donor and U.S. Government.
The Honorable Donald H. Rumsfeld, Secretary of Defense | Frankincense Burner and Perfume Decanter and Silver Teapot with Six Teacups, 9/16/2003, $1,050.00 and $990.00, respectively. Total Value $2,040.00. Transferred to GSA | Sheikh Jaber al-Ahmed al-Sabah, Prime Minister, Kuwait | Non-acceptance would have caused embarrassment to donor and U.S. Government.
The Honorable Donald H. Rumsfeld, Secretary of Defense | The Hashemite Coins of H.M. King Al-Hussein bin Ali, 11/3/2003, $1,000.00. Transferred to GSA | His Majesty King Abdullah bin Hussein and Queen Rania, the Hashemite Kingdom of Jordan | Non-acceptance would have caused embarrassment to donor and U.S. Government.
The Honorable Donald H. Rumsfeld, Secretary of Defense | Saber Sheath and Scabbard, Portrait of the Secretary of Defense and Plaque, 12/3/2003, $190.00, $100.00 and $10.00, respectively. Total Value $300.00. Transferred to GSA | His Excellency Safar Abiyev, Minister of Defense, Azerbaijan | Non-acceptance would have caused embarrassment to donor and U.S. Government.
The Honorable Donald H. Rumsfeld, Secretary of Defense | Large Carpet 61″ x 76″, 12/4/2003, $475.00. Transferred to GSA | His Excellency Hamad Karzai, President, Afghanistan | Non-acceptance would have caused embarrassment to donor and U.S. Government.
The Honorable Donald H. Rumsfeld, Secretary of Defense | Golden Fleece Statue, 12/4/2003, $320.00. Transferred to GSA | Her Excellency Nino Burjanadze, Interim President of Georgia | Non-acceptance would have caused embarrassment to donor and U.S. Government.
The Honorable Paul Wolfowitz, Deputy Secretary of Defense | Rug 118″ x 78″, 1/15/2003, 1,400.00. Transferred to GSA | His Excellency Hamad Karzai, President, Afghanistan | Non-acceptance would have caused embarrassment to donor and U.S. Government.
The Honorable Paul Wolfowitz, Deputy Secretary of Defense | Silver Enameled Chess Set and a Chess Board, 6/8/2003, $420.00. Transferred to GSA | L.K. Advani, Deputy Prime Minister of India | Non-acceptance would have caused embarrassment to donor and U.S. Government.
General Richard B. Myers, Chairman, Joint Chiefs of Staff | Crystal Eagle, 5/29/2003, $320.00. Transferred to GSA | Gen. A. Van Daele, Chief of Defense Kingdom of Belgium | Non-acceptance would have caused embarrassment to donor and U.S. Government.
General Richard B. Myers, Chairman, Joint Chiefs of Staff | Rug, 7/30/2003, $300.00. Transferred to GSA | His Excellency Hamad Karzai, President, Afghanistan | Non-acceptance would have caused embarrassment to donor and U.S. Government.
Under Secretary of Defense, Policy, The Honorable Douglas Feith | Lead Vase, 12/16/2003, $325.00. Transferred to GSA | Ambassador Salem Abdullah Al Jaber Al-Subah of the State of Kuwait and Mrs. Al-Sabah | Non-acceptance would have caused embarrassment to donor and U.S. Government.
Assistant Secretary of Defense, ISA, Peter Rodman and Mrs. Veronique Rodman | Black Leather Desk Set, Book “The National Remembrance Museum,” Silver Stand with Air Freshener Tips, Tall Silver Stand with Air Freshener Tips, two books; :Histoire Communautaire” and “Histoire Des Juifs” and Sliver Plated Jewelry Box, 1/25/2003, $330.00. Transferred to GSA | Tunisian Foreign Minister Ben Yahia | Non-acceptance would have caused embarrassment to donor and U.S. Government.
Assistant Secretary of Defense, ISA, Peter Rodman | Two Area Rugs; 93″ x 40″ (Black) and 84″ x 42.5″ (Burgandy), and Book “Marrakesh, The Secret of its Courtyard Houses”, 1/26/2003, $295.00. Transferred to GSA | Taib Fassi Fihiri, Minister Delegate for Foreign Affairs and Cooperation of Morocco | Non-acceptance would have caused embarrassment to donor and U.S. Government.
Assistant Secretary of Defense, ISA, Peter Rodman | Gold Bracelet and Sterling Pitcher, 12/12/2003, $700.00. Transferred to GSA | Egyptian Field Marshal Hussein Tantawy, Commander in Chief of the Armed Forces Minister of Defense and Military Production | Non-acceptance would have caused embarrassment to donor and U.S. Government.
Assistant Secretary of Defense, ISA, Peter Rodman | Lead Vase, 12/16/2003, $325.00. Transferred to GSA | Ambassador Salem Abdullah Al Jaber Al-Sabah of the State of Kuwait and Mrs. Al-Sabah | Non-acceptance would have caused embarrassment to donor and U.S. Government.
Mrs. Veronique Rodman | Silver Necklace, 12/12/2003, $300.00. Transferred to GSA | Lt. Gen Hamdy Weheba, Chief of Staff of the Egyptian Armed Forces | Non-acceptance would have caused embarrassment to donor and U.S. Government.
Dr. William J. Luti, DASD, Near Eastern & South Asian Affairs | Crystal Bowl, 12/12/2003, $325.00. Transferred to GSA | Ambassador Salem Abdullah Al Jaber Al-Sabah of the State of Kuwait and Mrs. Al-Sabah | Non-acceptance would have caused embarrassment to donor and U.S. Government.
Dr. Marin Strmecki, Special Assistant to the Secretary of Defense for Afganistan | Large Rug, Marble Box, Robe, Beaded Necklace, Marble Fish, Marble Elephant and Shawl, 12/17/2003, $1,400.00, $40.00, $150.00, $4.00, $15.00, $20.00 and $150.00, respectively. Total Value $1,779.00. Transferred to GSA | First Deputy Minister of Defense Abdul Rahim Wardar, Afghanistan | Non-acceptance would have caused embarrassment to donor and U.S. Government.

Agency: Department of the Navy
Report of Tangible Gifts
Name and title of person accepting gift on behalf of the U.S. Government | Gift, date of acceptance on behalf of the U.S. Government, estimated value, and current disposition or location | Identity of foreign donor and government | Circumstances justifying acceptance
Vern Clark, Chief of Naval Operations | 18K gold with cubic zirconia cufflinks with matching tie bar. Recv'd—June 4, 2002. Est. Value—$600.00-$800.00. Delivered to GSA April 30, 2003 | Abd el alim Mohamed Tamer, Egyptian, CNO | Non-acceptance would have caused embarrassment to donor and U.S. Government.
Connie Clark, Spouse of the Chief of Naval Operations | 18K gold necklace with matching earrings. Recv'd—January 19, 2003. Est. Value—$500.00-$700.00. Washington Navy Yard, Bldg. 36 Rm. 135 | Azza Tamer, spouse of Abd el alim Mohamed Tamer, Egyptian CNO | Non-acceptance would have caused embarrassment to donor and U.S. Government.
VADM Robert F. Willard, USN, COMSEVENTHFLT | One men's and one women's Classique Aussie Opal Writwatches. Recv'd—December 1, 2003. Est. Value—$1,518.00. Delivering to COMPACFLT for Disposition | Delegation from Townsville, Australia | Non-acceptance would have caused embarrassment to donor and U.S. Government.
Vern E. Clark, Chief of Naval Operations | Recv'd—January 18, 2003. Est. Value—$339.26. Expended for hotel room | Abd el Alim Mohamed Tamer, Egyptian CNO | Official counterpart visit.
L. G. Goff, Deputy EA to the Chief of Naval Operations | Recv'd—Jamuary 18, 2003. Est. Value—$339.26. Expended for hotel room | Abd el Alim Mohamed Tamer, Egyptian CNO | Deputy EA to CNO.
P. Bock, Aide-de-Camp, Chief Naval Operations | Recv'd—January 18, 2003. Est. Value—$339.26. Expended for hotel room | Abd el Alim Mohamed Tamer, Egyptian CNO | Aide-de-Camp to CNO.
VADM Robert F. Willard, USN, COMSEVENTHFLT | Recv'd—February 5, 2003. Est. Value—$328.00. Expended for hotel room | Japan Maritime Self-Defense Force | To conduct discussions with senior Japanese naval officers and tour Sapporo businesses.
VADM Robert F. Willard, USN, COMSEVENTHFLT | Recv'd—March 25, 2003. Est. Value—$852.00. Expended for hotel room | Singapore Ministry of Defense | To conduct discussions with senior Japanese naval officers and tour Sapporo businesses.
LT Elaine Luria, USN, COMSEVENTHFLT, Aide | Recv'd—February 5, 2003. Est. Value—$328.00. Expended for hotel room | Japan Maritime Self-Defense Force | To conduct discussions with senior Japanese naval officers and tour Sapporo businesses.
LT Elaine Luria, USN, COMSEVENTHFLT, Aide | Recv'd—March 25, 2003. Est. Value—$852.00. Expended for hotel room | Singapore Ministry of Defense | To conduct discussions with Singaporean government and military officials.

AGENCY: Department of Commerce
Report of Tangible Gifts
Name and title of person accepting gift on behalf of the U.S. Government | Gift, date of acceptance on behalf of the U.S. Government, estimated value, and current disposition or location | Identity of foreign donor and government | Circumstances justifying acceptance
Samuel W. Bodman, Deputy Secretary of Commerce | Brown textured leather briefcase. 14¼″ x 16½″. Recd—01/15/03. Appraised Value—$325. Location—HCHB Vault | Sir Anerood Fugnauth, Prime Minister of the Republic of Mauritius | Courtesy and Appreciation.
Samuel W. Bodman, Deputy Secretary of Commerce | Partial model of a Bahrain ship, in .925 silver (sterling). Recd—3/2/03. Appraised Value—$350. Purchased by Deputy Secretary | Institute of Technology, Bahrain | Courtesy and Appreciation.
Samuel W. Bodman, Deputy Secretary of Commerce | Icon—gold leaf/pigment icon 3 standing figures w/writing in Cyrillic over each. Recd—07/15/03. Appraised Value—$300. Purchased by Deputy Secretary | Prefect Brasov, Romania | Courtesy and Appreciation.
Samuel W. Bodman, Deputy Secretary of Commerce | Art Glass Vase, 12″, 5½″ in diameter, landscape scene. Recd—7/15/03. Appraised Value—$300.00. Purchased by Deputy Secretary | Prime Minister Adrian Nastase, Bucharest, Romania | Courtesy and Appreciation.
Samuel W. Bodman, Deputy Secretary of Commerce | Painting—Harvest Oil on canvas, Image—20½″ x 24½″, frame 25½. Recd—7/17/03. Appraised Value—$750. Purchased by Deputy Secretary | Atanas Iantchev, Bristol Myers-Bulgaria | Courtesy and Appreciation.
Samuel W. Bodman, Deputy Secretary of Commerce | A dress ceremonial Dagger in a silver filigree sheath, 11½″ x 5½″; Framed under plexiglas. Recd—09/08/03. Appraised Value—$300. Purchased by Deputy Secretary | Yemen Aref Abdulrahman, Mohammed BaNafea, Abdul Salam | Courtesy and Appreciation.
Samuel W. Bodman, Deputy Secretary of Commerce | A crystal sculpture w/a gilt replica of Kuwait City, Height 8″. Recd—10/18/03. Appraised Value—$650. Location—Rm H5838 | Rashid Al-Tabtabaee, Kuwait | Courtesy and Appreciation.
Donald L. Evans, Secretary of Commerce | Hand-painted wooden lacquered box. Recd—02/13/03. Appraised Value—$550. Location—Secretary's Office | Vagit Alekperov, Chairman of LukOil | Appreciation/Diplomatic Formality.
Donald L. Evans, Secretary of Commerce | Hand-woven rug, 100% wool 23½″ x 54″ in Width, 61½″ In Length. Recd—02/24/03. Appraised Value—$750. Location—Purchased by Deputy Secretary | Heidar Aliyev, President Azerbaijan | Appreciation/Diplomatic Formality.
Donald L. Evans, Secretary of Commerce | Sterling silver plate, 9″ in diameter. Recd—02/28/03. Appraised Value—$650. Location—Secretary's Office | Georgi Parvanov, President of Bulgaria | Appreciation/Diplomatic Formality.
Donald L. Evans, Secretary of Commerce | Collection of contemporary Russian postage stamps. Recd—03/03/03. Appraised Value—$1,250. Location—Secretary's Office | Leonid Reiman, Minister, Russian Federation | Appreciation/Diplomatic Formality.
Donald L. Evans, Secretary of Commerce | Wooden egg within brass filigree cage. 6″ high, hand-painted. Recd—03/03/03. Appraised Value—$325. Location—Secretary's Office | Leonid Reiman, Minister, Russian Federation | Appreciation/Diplomatic Formality.
Donald L. Evans, Secretary of Commerce | Hand-woven rug, 100% wool in Bokhara style, 34″ x 48″. Recd—04/14/03. Appraised Value—$675. Location—Purchased by Secretary | Elyor Ganiev, Deputy Prime Minister of Uzbekistan | Appreciation/Diplomatic Formality.
Donald L. Evans, Secretary of Commerce | Hand-knotted wool pile rug 6′4″ x 5′8″ Recd—06/06/03. Appraised Value—$650. Location—Secretary's Office | Humayun Akhtar Khan, Minister, Commerce of Pakistan | Appreciation/Diplomatic Formality.
Donald L. Evans, Secretary of Commerce | Porcelain Plate by Lomonosov, Porcelain, Russia, 13½″ in Diameter. Recd—09/24/03. Appraised Value—$300. Location—Secretary's Office | Vagit Alekperov, President of LukOil, Russia | Appreciation/Diplomatic Formality.
Donald L. Evans, Secretary of Commerce | Pair of plique a jour enamel stemmed goblets, .925 silver. Recd—09/26/03. Appraised Value—$500. Location—Secretary's Office | German O. Gref, Minister, Trade & Economic Development, Russia | Appreciation/Diplomatic Formality.
Donald L. Evans, Secretary of Commerce | Plique a jour enamel tea set, .925 silver, 2 saucers/2 spoons. Recd—09/26/03. Appraised Value—$700. Location—Secretary's Office | German O. Gref, Minister, Trade & Economic Development, Russia | Appreciation/Diplomatic Formality.
Donald L. Evans, Secretary of Commerce | Hand knotted wool rug, low pile. 70″ x 45″. Recd—10/16/03. Appraised Value—$400. Location—Room 5847 | Sayed Mustafa Kazemi, Minister of Commerce for Afghanistan | Appreciation/Diplomatic Formality.
Donald L. Evans, Secretary of Commerce | Hand knotted wool rug 108″ x 8 1.5″ Recd—10/16/03. Appraised Value—$800. Location—Room 5847 | Sayed Mustafa Kazemi, Minister of Commerce for Afghanistan | Appreciation/Diplomatic Formality.
Donald L. Evans, Secretary of Commerce | Sculpture horse & cart statue. Recd—10/16/03. Damaged in Shipping. Appraised Value (prior) $850. Location—HCHB Vault | Sayed Mustafa Kazemi, Minister of Commerce for Afghanistan | Appreciation/Diplomatic Formality.

Department of Energy
Report of Tangible Gifts
Name and title of person accepting gift on behalf of the U.S. Government | Gift, date of acceptance on behalf of the U.S. Government, estimated value, and current disposition or location | Identity of foreign donor and government | Circumstances justifying acceptance
Spencer Abraham, Secretary of Energy | Plaque, Russian, carved dark amber Russian emblem over light amber background, the emblem of crowned double-headed eagle holding sceptre and orb and chest fronted by shield depicting St. George on horseback lancing a dragon, all in molded wood frame with hinged foot, 11″h x 10″w, in locking blue presentation box. Received—March 12, 2003. Estimated Value—$900.00. Reported to GSA June 30, 2003; pending transfer to GSA | Alexander Rumyanstev, Minister of Atomic Energy, Russia | Non-acceptance would have caused embarrassment to donor and U.S. Government.
Spencer Abraham, Secretary of Energy | Chess set, Russian, wood box with hinged lid being a playing board with squares of light and dark amber chunks set in clear resin, surrounded by border of dark amber resin, with inset wood numbers 1-8 and letters a-h, 3¼″h x 16½″w, box interior containing amber playing pieces including 4 horse heads, rest as turned round bottles/jars/urns. Received—April 28, 2003. Estimated Value—$2,200.00. Reported to GSA June 30, 2003; pending transfer to GSA | Igor Yusufov, Minister of Energy, Russia | Non-acceptance would have caused embarrassment to donor and U.S. Government.
Spencer Abraham, Secretary of Energy | Box with oil and stone samples: hardwood box, lid with applied silvertone band surrounding plaque “Kingdom of Saudi Arabia” plus roundel of foliate scroll arabesques surmounted by Saudi emblem of palm tree over crossed sabres, interior of lid having goldtone band surrounding brass plaque “With the compliments of Al-Naimi/Minister of Petroleum & Mineral Resources/Kingdom of Saudi Arabia”, interior with piercecut brasstone rectangle fitted with cylindrical rock from Manifa Reservoir”, beneath a clear crystal stoppered jar of oil over label “A Sample of Arabian Light Crude Oil from the Arab (D) Reservoir; box overall 4¾″h x 13″w x 16″d. Received—April 30, 2003; Estimated Value—$450.00. Reported to GSA June 30, 2003; pending transfer to GSA | H.E. Ali Al-Naimi, Minister of Petroleum & Mineral Resources | Non-acceptance would have caused embarrassment to donor and U.S. Government.
Spencer Abraham, Secretary of Energy | Statue, Qatarian, falcon perched on gauntlet, covered in sterling silver plus gilt beak/talons/buttons/edge of glove, feet wrapped in redtone spiral twist cord, 15″h x 4¾″w x 5″d, mounted on 2 tier rectangular base painted black and plaqued “The Falcon” and “Qatar Petroleum”, in carrying box clad in simulated crocodile skin with 4 locks. Received—April 30, 2003. Estimated Value—$650.00. Reported to GSA June 30, 2003; pending transfer to GSA | Abdullah Bin Hamad Al-Attiyah, Minister of Energy, Qatar | Non-acceptance would have caused embarrassment to donor and U.S. Government.

Agency: Department of State
[Report of tangible gifts]
Name and title of person accepting the gift on behalf of the U.S. Government | Gift, date of acceptance on behalf of the U.S. Government, estimated value, and current disposition or location | Identity of foreign donor and government | Circumstances justifying acceptance
Colin L. Powell, The Secretary of State of the United States | Table decoration—10¼″ H, silver of elephant form decorated with polychrome enamel, faux pearls, howdah with rider and mahout, India, 20th/21st century. Date Received: 1/1/2003. Estimated Value: $350.00. Disposition: Pending transfer to the General Services Administration | Lalit Mansingh, Ambassador of India to the United States | Non-acceptance would cause the donor or the U.S. Government embarrassment.
Colin L. Powell, The Secretary of State of the United States | Box—lidded, 6½″L, Xolui lacquer with polychrome fairy tale scene to lid, by O. Kotoff, Russia, 20th/21st century. Date Received: 1/1/2003. Estimated Value: $550.00. Disposition: Pending transfer to the General Services Administration | Igor Ivanov, Minister of Foreign Affairs of the Russian Federation | Non-acceptance would cause the donor or the U.S. Government embarrassment.
Colin L. Powell, The Secretary of State of the United States | Rug—59½″ x 84″, wool on wool, dark blue field with rust and doubly terminated medallion, six borders with rust main, 20th/21st century. Date Received: 2/27/2003. Estimated Value: $850.00. Disposition: Pending transfer to the General Services Administration | Hamid Karzai, President of the Transitional Islamic State of Afghanistan | Non-acceptance would cause the donor or the U.S. Government embarrassment.
Colin L. Powell, The Secretary of State of the United States | Rug—52″ x 32″, wool on wool, red field with snowflake motif to center, six borders with ivory main, 20th/21st century. Date Received: 4/18/2003. Estimated Value: $450.00. Disposition: Pending transfer to the General Services Administration | Rusta Azimov, Deputy Prime Minister of the Republic of Uzbekistan | Non-acceptance would cause the donor or the U.S. Government embarrassment.
Colin L. Powell, The Secretary of State of the United States | Sculpture—7½ x 9½, pierced and carved olive green serpentine depicting leaves and fruit, China 20th/21st century, wood base. Date Received: 4/21/2003. Estimated Value: $350.00. Disposition: Pending transfer to the General Services Administration | Chen Yun-lin, Minister of the Taiwan Affairs Office, The State Council of China | Non-acceptance would cause the donor or the U.S. Government embarrassment.
Colin L. Powell, The Secretary of State of the United States | Cufflinks—small size, 18 karat yellow gold doubles, each a lapis lazuli “button” inlaid with yellow gold wire. Date Received: 4/28/2003. Estimated Value: $650.00. Disposition: Pending transfer to the General Services Administration | Maria Soledad Alvear Valenzuela, Minister of Foreign Relations of Chile | Non-acceptance would cause the donor or the U.S. Government embarrassment.
Colin L. Powell, The Secretary of State of the United States | Dessert forks and spoon—99 silver decorated with blue enamel, ends marked “Made in Korea” and with Korean yin and yang, boxed, 20th/21st century. Date Received: 4/30/2003. Estimated Value: $360.00. Disposition: Pending transfer to the General Services Administration | Ra Johg-II, Senior Advisor to the President for National Security of the Republic of Korea | Non-acceptance would cause the donor or the U.S. Government embarrassment.
Colin L. Powell, The Secretary of State of the United States | Clock—desk clock, 10½″L, wood base with applied pierced brass sheet, mounted with two sterling silver antelopes flanking a sterling silver cylinder mounted with a quartz clock movement, 20th/21st century. Date Received: 5/9/2003. Estimated Value: $3,000.00. Disposition: Pending transfer to the General Services Administration | Sheikh Hamad bin Khalifa Al Thani, Amir of the State of Qatar | Non-acceptance would cause the donor or the U.S. Government embarrassment.
Colin L. Powell, The Secretary of State of the United States | Lithograph—color, 11″ x 15¼″, dramatic red landscape, #3/100, by H.R.H. Prince Khalid al-Faisal al-Saud, published by Anthony Bailey, 2000, matted and framed. Date Received: 5/13/2003. Estimated Value: $500.00. Disposition: Pending transfer to the General Services Administration | Prince Bandar bin Khaled Al Faisal Al-Saud, Ambassador of the Kingdom of Saudi Arabia to the United States | Non-acceptance would cause the donor or the U.S. Government embarrassment.
Colin L. Powell, The Secretary of State of the United States | Place card holders, sterling silver, fitted box. Date Received: 5/19/2003. Estimated Value: $360.00. Disposition: Pending transfer to the General Services Administration | Gloria Macapagal-Arroyo of the Republic of the Philippines | Non-acceptance would cause the donor or the U.S. Government embarrassment.
Colin L. Powell, The Secretary of State of the United States | Cufflinks, 18 karat yellow gold, each with a mother of pearl plaque. Date Received: 5/19/2003. Estimated Value: $550.00 Disposition: Pending transfer to the General Services Administration | Gloria Macapagal-Arroyo, President of the Republic of the Philippines | Non-acceptance would cause the donor or the U.S. Government embarrassment.
Colin L. Powell, The Secretary of State of the United States | Dagger—silver hilt and scabbard, by Al mannai, 20th/21st century, 30ozsT including steel blade. Date Received: 5/21/2003. Estimated Value: $750.00. Disposition: Pending transfer to the General Services Administration | Shaikh Salman bin Hamad Al-Khalifa, Crown Prince and Commander-in-Chief of the Bahrain Defense Force | Non-acceptance would cause the donor or the U.S. Government embarrassment.
Colin L. Powell, The Secretary of State of the United States | Clock—Mantel, 15½″h, porcelain with blue “net” decoration overall, reserves decorated with polychrome scenes, bird finial, two hunters flanking clock face, wood base with porcelain feet, 20th/21st century. Date Received: 5/31/2003. Estimated Value: $450.00. Disposition: Pending transfer to the General Services Administration | Igor Ivanov, Minister of Foreign Affairs of the Russian Federation | Non-acceptance would cause the donor or the U.S. Government embarrassment.
Colin L. Powell, The Secretary of State of the United States | Coins—Vatican: one sterling silver medal commemorating 25 years of John Paul II's pontificate surrounded by 8 Vatican coins in “Euro” denominations, proof: 2 euro, 1 euro, .5 euro, .2 euro, .1 euro, .05 euro, .02 euro, .01 euro, fitted case. Date Received: 6/2/2003. Estimated Value: $650. Disposition: Pending transfer to the General Services Administration | John Paul II, The Pope, Holy See | Non-acceptance would cause the donor or the U.S. Government embarrassment.
Colin L. Powell, The Secretary of State of the United States | Letter Opener—miniature sword 13″L, silver with applied gold decoration, ivory handle, wood stand. Date Received: 6/3/2003. Estimated Value: $1,500.000. Disposition: Pending transfer to the General Services Administration | Abdallah bin Abd al-Aziz Al Saud, Crown Prince, First Deputy Prime Minister and Commander of the National Guard of the Kingdom of Saudi Arabia | Non-acceptance would cause embarrassment to donor and U.S. Government.
Colin L. Powell, The Secretary of State of the United States | Coins—5 silver, 5 bronze, 1 copper and 1 gold, Roman and Islamic periods, inlaid wood case. Date Received: 6/3/2003. Estimated Value: $750.00. Disposition: Pending transfer to the General Services Administration | Emile Lahoud, President of the Republic of Lebanon | Non-acceptance would cause embarrassment to donor and U.S. Government.
Colin L. Powell, The Secretary of State of the United States | Pen—black plastic, 18 karat white gold nib, sterling silver cap with gold plating, Mont Blanc, together with a notepad in sterling silver with gilt crown having a framed print of Petra to lid. Date Received: 6/4/2003. Estimated Value: $900.00. Disposition: Pending transfer to the General Services Administration | Abdullah II bin al Hussein, King of the Hashemite Kingdom of Jordan | Non-acceptance would cause embarrassment to donor and U.S. Government.
Colin L. Powell, The Secretary of State of the United States | Pen—ink, burgundy plastic case with 18 karat yellow gold nib and overlay, cap set with 15 rubies 3mm, Mont blanc, Commemorative of Catherine II. Date Received: 6/5/2003. Estimated Value: $3,000.00. Disposition: Pending transfer to the General Services Administration | Shaikh Abdullah bin Khalifa al Thani, Prime Minister of the State of Qatar | Non-acceptance would cause embarrassment to donor and U.S. Government.
Colin L. Powell, The Secretary of State of the United States | Box—cigarette box, sterling silver with burl wood lining, lid mounted with gold and enamel coat of arms, 20th/21st century, 22ozsT. Date Received: 6/12/2003. Estimated Value: $600.00. Disposition: Pending transfer to the General Services Administration | Maha Vajiralongkorn, Crown Prince of Thailand | Non-acceptance would cause embarrassment to donor and U.S. Government.
Colin L. Powell, The Secretary of State of the United States | Cufflinks, 18 karat yellow gold, each a cast ball in the manner of Arnoldo Pomodoro. Date Received: 6/12/2003. Estimated Value: $750.00. Disposition: Pending transfer to the General Services Administration | Franco Frattini, Minister of Foreign Affairs of the Italian Republic | Non-acceptance would cause embarrassment to donor and U.S. Government.
Colin L. Powell, The Secretary of State of the United States | Watch—Men's gold watch with diamonds. Date Received: 6/15/2003. Estimated Value: $3,200.00. Disposition: Pending transfer to the General Services Administration | Heydar Aliyev, President of the Republic of Azerbaijan | Non-acceptance would cause embarrassment to donor and U.S. Government.
Colin L. Powell, The Secretary of State of the United States | Dinnerware—porcelain with silver border, 20th/21st century; gravy boat, soup tureen, vegetable dish, platter, sugar and creamer, 6 each dinner plates, rim soups, salad plates, cereal bowls, cups & saucers. Date Received: 6/19/2003. Estimated Value: $550.00. Disposition: Pending transfer to the General Services Administration | Manzur Morshed Khan, Minister of Foreign Affairs of the People's Republic of Bangladesh | Non-acceptance would cause embarrassment to donor and U.S. Government.
Colin L. Powell, The Secretary of State of the United States | Bowl—9¼″ diameter x 5″H, 900 silver, reposed and chased, 30ozsT. Date Received: 6/21/2003. Estimated Value: $600.00. Disposition: Pending Transfer to the General Services Administration | Samdech Hun Sen, Prime Minister of the Kingdom of Cambodia | Non-acceptance would cause the donor or the U.S. Government embarrassment.
Colin L. Powell, The Secretary of State of the United States | Box—lidded, pull out tray, 14¼″ x 20¾″ x 6″H, black lacquer with mother of pearl inlay, 20th/21st century, fitted box. Date Received: 6/27/2003. Estimated Value: $450.00. Disposition: Pending Transfer to the General Services Administration | Cho, Yung Kil, Minister of National Defense of the Republic of Korea | Non-acceptance would cause the donor or the U.S. Government embarrassment.
Colin L. Powell, The Secretary of State of the United States | Sculpture, 4″ x 7½″, bronze, figures in a canoe, by Sid Forman, 20th/21st century. Date Received: 7/12/2003. Estimated Value: $300.00. Disposition: Pending Transfer to the General Services Administration | Nkosazana Dlamini-Zuma, Minister of Foreign Affairs of the Republic of South Africa | Non-acceptance would cause the donor or the U.S. Government embarrassment.
Colin L. Powell, The Secretary of State of the United States | Coins, Jordan, 1916-24, in case: 1 Hashimi dinar gold, 20 Qirshan silver, 10 qirshan silver, 5 qirshan silver, 1 qirsh copper, ½ qirsh copper, ¼ qirsh copper, ⅛ qirsh copper, minted in Mecca. Date Received: 9/19/2003. Estimated Value: $750.00. Disposition: Pending Transfer to the General Services Administration | Abdulla II bin al Hussein, King of the Hashemite Kingdom of Jordan | Non-acceptance would cause the donor or the U.S. Government embarrassment.
Colin L. Powell, The Secretary of State of the United States | Book, “Royal Barge Procession”, fitted case and box, 2003, Thailand. Date Received: 10/18/2003. Estimated Value: $25.00. Disposition: Pending Transfer to the General Services Administration | Surakiart Sathirathai, Minister of Foreign Affairs of the Kingdom of Thailand | Non-acceptance would cause the donor or the U.S. Government embarrassment.
Colin L. Powell, The Secretary of State of the United States | Brief case, black leather. Date Received: 10/18/2003. Estimated Value: $225.00. Disposition: Pending Transfer to the General Services Administration | Surakiart Sathirathai, Minister of Foreign Affairs of the Kingdom of Thailand | Non-acceptance would cause the donor or the U.S. Government embarrassment.
Colin L. Powell, The Secretary of State of the United States | Picture frame, 12″ x 12″, repose silver, 20th/21st century. Date Received: 10/18/2003. Estimated Value: $400.00. Disposition: Pending Transfer to the General Services Administration | Surakiart Sathirathai, Minister of Foreign Affairs of the Kingdom of Thailand | Non-acceptance would cause the donor or the U.S. Government embarrassment.
Colin L. Powell, The Secretary of State of the United States | Calendar, paper, 2004 Thailand “Unseen Corner of Paradise”. Date Received: 10/18/2003. Estimated Value: $15.00. Disposition: Pending Transfer to the General Services Administration | Surakiart Sathirathai, Minister of Foreign Affairs of the Kingdom of Thailand | Non-acceptance would cause the donor or the U.S. Government embarrassment.
Colin L. Powell, The Secretary of State of the United States | Etching, color, 73/8 x 53/8, Bucharest scene, #81/99, by Val Lonescu, 20th century. Date Received: 10/27/2003. Estimated Value: $50.00. Disposition: Pending transfer to the General Services Administration | Ion Iliescu, President of Romania | Non-acceptance would cause the donor or the U.S. Government embarrassment.
Colin L. Powell, The Secretary of State of the United States | Book, “Irimescu”, by Alexandru Cebuc, 2003. Date Received: 10/27/2003. Estimated Value: $30.00. Disposition: Pending transfer to the General Services Administration | Ion Iliescu, President of Romania | Non-acceptance would cause the donor or the U.S. Government embarrassment.
Colin L. Powell, The Secretary of State of the United States | Book, “Brancusi”, by Radu Varia, 1986. Date Received: 10/27/2003. Estimated Value: $80.00. Disposition: Pending transfer to the General Services Administration | Ion Iliescu, President of Romania | Non-acceptance would cause the donor or the U.S. Government embarrassment.
Colin L. Powell, The Secretary of State of the United States | Blouse, cotton, embroidered, Rumania. Date Received: 10/27/2003. Estimated Value: $50.00. Disposition: Pending transfer to the General Services Administration | Ion Iliescu, President of Romania | Non-acceptance would cause the donor or the U.S. Government embarrassment.
Colin L. Powell, The Secretary of State of the United States | Medal—Order, Star of Rumania, medal, badge, and lapel pin, boxed, with documentation. Date Received: 10/27/2003. Estimated Value: $200.00. Disposition: Pending transfer to the General Services Administration | Ion Iliescu, President of Romania | Non-acceptance would cause the donor or the U.S. Government embarrassment.
Colin L. Powell, The Secretary of State of the United States | Rug, 69″ x 49″, wool on cotton, light blue field with snowflake medallions, intricate astragals, five borders, 20th/21st century. Date Received: 12/2/2003. Estimated Value: $500.00. Disposition: Pending transfer to the General Services Administration | Habib Ben Yahia, Minister of Foreign Affairs of the Republic of Tunisia | Non-acceptance would cause the donor or the U.S. Government embarrassment.
Colin L. Powell, The Secretary of State of the United States | Sculpture, 111/2″ L, silver filigree, dove, red glass eye, marble base, 20th/21st century. Date Received: 12/2/2003. Estimated Value: $750.00. Disposition: Pending transfer to the General Services Administration | Zine El-Abidine Ben Ali, President of the Republic of Tunisia | Non-acceptance would cause the donor or the U.S. Government embarrassment.
Colin L. Powell, The Secretary of State of the United States | Ship’s model, 10″ x 10¼″, silver filigree with coral cabochons, 20th/21st century, 28 ozsT. Date Received: 12/3/2003. Estimated Value: $500.00. Disposition: Pending transfer to the General Services Administration | Abdelaziz Bouteflika, President of the People's Democratic Republic of Algeria | Non-acceptance would cause the donor or the U.S. Government embarrassment.
Colin L. Powell, The Secretary of State of the United States | Saddle, leather with embroidered leather trappings, plywood trunk. Date Received: 12/3/2003. Estimated Value: $450.00. Disposition: Pending transfer to the General Services Administration | Abdelaziz Bouteflika, President of the People's Democratic Republic of Algeria | Non-acceptance would cause the donor or the U.S. Government embarrassment.
Amada Philpot, Special Agent—Diplomatic Security | Watch—Raymond Weil (Ladies). Date Received: 9/30/2003. Estimated Value: $600.00. Disposition: Pending transfer to the General Services Administration | Shaykh Hamad bin Jasim bin Jabir Al Thani, Minister of Foreign Affairs of the State of Qatar | Non-acceptance would cause the donor or the U.S. Government embarrassment.
Christian Edwards, Protocol Officer | Pen—Black plastic body, sterling silver and gold filled cap, Mont Blanc. Date Received: 6/4/2003. Estimated Value: $450.00. Disposition: Pending transfer to the General Services Administration | Abdullah II bin al Hussein, King of the Hashemite Kingdom of Jordan | Non-acceptance would cause the donor or the U.S. Government embarrassment.
Christopher Keenan, Special Agent—Diplomatic Security | Watch—Movado (Men's). Date Received: 9/27/2003. Estimated Value: $440.00. Disposition: Pending transfer to the General Services Administration | Shaykh Hamad bin Jasim bin Jabir Al Thani, Minister of Foreign Affairs of the State of Qatar | Non-acceptance would cause the donor or the U.S. Government embarrassment.
Daphne Martinez, Protocol Officer | Coin, gold, 40th anniversary, 47.54 grams of 22 karat yellow gold, plastic cases. Date Received: 9/20/2003. Estimated Value: $675.00. Disposition: Pending transfer to the General Services Administration | Shaykh Saad al-Abdullah al-Salim Al Sabah, Crown Prince and Prime Minister of State of Kuwait | Non-acceptance would cause the donor or the U.S. Government embarrassment.
Dean Lewis, Protocol Officer | Coin, gold, 40th anniversary, 47.54 grams of 22 karat yellow gold, plastic cases. Date Received: 9/20/2003. Estimated Value: $675.00. Disposition: Pending transfer to the General Services Administration | Shaykh Saad al-Abdullah al-Salim Al Sabah, Crown Prince and Prime Minister of State of Kuwait | Non-acceptance would cause the donor or the U.S. Government embarrassment.
Donald Burnham Ensenat, The Chief of Protocol of the United States | Pen—Montblanc. Date Received: 6/13/2003. Over Minimum Value. Disposition: Pending transfer to the General Services Administration | Abdullah II bin al Hussein, King of the Hashemite Kingdom of Jordan | Non-acceptance would cause the donor or the U.S. Government embarrassment.
Donald Burnham Ensenat, The Chief of Protocol of the United States | Pen—ball point, green plastic body, chrome plated mounts, Harry Winston. Date Received: 6/13/2003. Estimated Value: $325.00. Disposition: Pending transfer to the General Services Administration | Abdullah bin al-Aziz Al Saud, Crown Prince, First Deputy Prime Minister and Commander of the National Guard of the Kingdom of Saudi Arabia | Non-acceptance would cause the donor or the U.S. Government embarrassment.
Ed Seitz, Special Agent—Diplomatic Security | Watch—Raymond Weil (Men's). Date Received: 9/26/2003. Estimated Value: $526.40. Disposition: Pending transfer to the General Services Administration | Shaykh Hamad bin Jasim bin Jabir Al Thani, Minister of Foreign Affairs of the State of Qatar | Non-acceptance would cause the donor or the U.S. Government embarrassment.
James A. Baker, III, Special Presidential Envoy | Watch—dual time zone—engraved “Presidence de la Republique Francaise” (Men's). Date Received: 12/16/2003. Over Minimum Value. Disposition: Pending transfer to the General Services Administration | Jacques Chirac, President of the French Republic | Non-acceptance would cause the donor or the U.S. Government embarrassment.
James A. Baker, III, Special Presidential Envoy | Watch—Bvlgari Rettangolo—engraved “II Residente del Consiglio dei Ministri” (Men's). Date Received: 12/17/2003. Over Minimum Value. Disposition: Pending transfer to the General Services Administration | Silvio Berlusconi, President of the Council of Ministers of the Italian Republic | Non-acceptance would cause the donor or the U.S. Government embarrassment.
Jeffrey Dee, Special Agent—Diplomatic Security | Watch—Sector (Men's). Date Received: 9/27/2003. Over Minimum Value. Disposition: Pending transfer to the General Services Administration | Shaykh Hamad bin Jasim bin Jabir Al Thani, Minister of Foreign Affairs of the State of Qatar | Non-acceptance would cause the donor or the U.S. Government embarrassment.
John E. Herbst, U.S. Ambassador to Uzbekistan | Rug—hand-woven silk/cotton blend rug. Date Received: 7/9/2003. Estimated Value: $600.00. Disposition: Pending transfer to the General Services Administration | Azimov, Deputy Prime Minister of the Republic of Uzbekistan | Non-acceptance would cause the donor or the U.S. Government embarrassment.
John R. Bolton, Under Secretary of State | Jewelry—Necklace, earrings, bracelet and ring—sterling silver w/stone. Date Received: 6/18/2003. Estimated Value: $40.00. Disposition: Pending transfer to the General Services Administration | Ali Abdullah Saleh, President of the Republic of Yemen | Non-acceptance would cause the donor or the U.S. Government embarrassment.
John R. Bolton, Under Secretary of State | Sword—sterling silver. Date Received 6/18/2003. Estimated Value: $1,000.00. Disposition: Pending transfer to the General Services Administration | Ali Abdullah Saleh, President of the Republic of Yemen | Non-acceptance would cause the donor or the U.S. Government embarrassment.
Keith Sims, Special Agent—Diplomatic Security | Watch—Movado (Men's). Date Received: 9/29/2003. Estimated Value: $695.00 Disposition: Pending transfer to the General Services Administration | Shaykh Hamad bin Jasim bin Jabir Al Thani, Minister of Foreign Affairs of the State of Qatar | Non-acceptance would cause the donor or the U.S. Government embarrassment.
Keith Sims, Special Agent—Diplomatic Security | Watch—Movado (Men's). Date Received: 9/29/2003. Estimated Value: $526.40 Disposition: Pending transfer to the General Services Administration | Shaykh Hamad bin Jasim bin Jabir Al Thani, Minister of Foreign Affairs of the State of Qatar | Non-acceptance would cause the donor or the U.S. Government embarrassment.
Matt B. Sweeney, Special Agent—Diplomatic Security | Watch—Wittnauer (Men's). Date Received: 9/28/2003. Estimated Value: $526.40. Disposition: Pending transfer to the General Services Administration | Shaykh Hamad bin Jasim bin Jabir Al Thani, Minister of Foreign Affairs of the State of Qatar | Non-acceptance would cause the donor or the U.S. Government embarrassment.
Michael K. Kerns, Special Agent—Diplomatic Security | Watch—Wittnauer (Men's). Date Received: 9/27/2003. Over Minimum Value. Disposition: Pending transfer to the General Services Administration | Shaykh Hamad bin Jasim bin Jabir Al Thani, Minister of Foreign Affairs of the State of Qatar | Non-acceptance would cause the donor or the U.S. Government embarrassment.
Robert A. O'Bannon, Special Agent—Diplomatic Security | Watch—TechnoMarine XS Magnum (Men's). Date Received: 10/21/2003. Estimated Value: $684.00. Disposition: Pending transfer to the General Services Administration | Shaykh Hamad bin Jasim bin Jabir Al Thani, Minister of Foreign Affairs of the State of Qatar | Non-acceptance would cause the donor or the U.S. Government embarrassment.
Sean R. Hicks, Special Agent—Diplomatic Security | Watch—TechnoMarine (Men's). Date Received: 10/6/2003. Estimated Value: $684.00. Disposition: Pending transfer to the General Services Administration | Shaykh Hamad bin Jasim bin Jabir Al Thani, Minister of Foreign Affairs of the State of Qatar | Non-acceptance would cause the donor or the U.S. Government embarrassment.
Shane R. Winder, Special Agent—Diplomatic Security | Watch—Raymond Weil TechnoMarine (Men's). Date Received: 9/29/2003. Estimated Value: $526.40. Disposition: Pending transfer to the General Services Administration | Shaykh Hamad bin Jasim bin Jabir Al Thani, Minister of Foreign Affairs of the State of Qatar | Non-acceptance would cause the donor or the U.S. Government embarrassment.
Siobhan Leonard, Special Agent—Diplomatic Security | Watch—Raymond Weil (Ladies). Date Received: 9/30/2003. Estimated Value: $526.40. Disposition: Pending transfer to the General Services Administration | Shaykh Hamad bin Jasim bin Jabir Al Thani, Minister of Foreign Affairs of the State of Qatar | Non-acceptance would cause the donor or the U.S. Government embarrassment.
Timothy Leeds, Special Agent—Diplomatic Security | Watch—Movado (Men's). Date Received: 10/2/2003. Estimated Value: $400.00. Disposition: Pending transfer to the General Services Administration | Shaykh Hamad bin Jasim bin Jabir Al Thani, Minister of Foreign Affairs of the State of Qatar | Non-acceptance would cause the donor or the U.S. Government embarrassment.
Winston Whittington, Special Agent—Diplomatic Security | Watch—TechnoMarine (Men's). Date Received: 10/1/2003. Estimated Value: $685.00 Disposition: Pending transfer to the General Services Administration | Shaykh Hamad bin Jasim bin Jabir Al Thani, Minister of Foreign Affairs of the State of Qatar | Non-acceptance would cause the donor or the U.S. Government embarrassment.

Agency: Central Intelligence Agency
[Record of tangible gifts—2003]
Name and title of person accepting gift on behalf of the U.S. Government | Gift, date of acceptance on behalf of the U.S. Government, estimated value, and current disposition or location | Identity of foreign donor and government | Circumstances justifying acceptance
George J. Tenet, Director, Central Intelligence | Silvered metal scabbard dagger (Jambiya), 20th Century, in a burgundy velvet fitted case. Rec'd—January 21, 2003. Est. value: $300.00. To be retained for official display | 5 U.S.C. 7342(f)(4) | Non-acceptance would have caused embarrassment to donor and U.S. Government.
George J. Tenet, Director, Central Intelligence | Rug, 10.6 x 8.4, post 1950's, red ground enclosing four medallions on blue to red ground, navy blue guard border. Rec'd—March 18, 2003. Est. value: $600.00. To be retained for official display | 5 U.S.C. 7342(f)(4) | Non-acceptance would have caused embarrassment to donor and U.S. Government.
George J. Tenet, Director, Central Intelligence | Yellow gold rose diamond and tourmaline four-piece ensemble, modern, consisting of: a tassel pendant and beaded necklace, pair of pierced type earrings and a ring, in a gray velvet case. Rec'd—May 05, 2003. Est. value: $500.00.To be retained for official display | 5 U.S.C. 7342(f)(4) | Non-acceptance would have caused embarrassment to donor and U.S. Government.
George J. Tenet, Director, Central Intelligence | Baccarat molded and cut glass luster candlestick with etched glass hurricane shade, modern. H: 21 inches. Rec'd—July 23, 2003. Est value: $300.00. To be retained for official display | 5 U.S.C. 7342(f)(4) | Non-acceptance would have caused embarrassment to donor and U.S. Government.
George J. Tenet, Director, Central Intelligence | Nain silk rug, 9.8 x 6.6, modern, ivory ground with palmette and trellising vine field centering a pulled lobed medallion on olive green to ivory ground, ivory spandrels, palmette and trellising vine guard border on olive green ground. Rec'd—November 13, 2003. Est. value: $2,500.00. To be retained for official display | 5 U.S.C. 7342(f)(4) | Non-acceptance would have caused embarrassment to donor and U.S. Government.
George J. Tenet, Director, Central Intelligence | Goum silk rug. 3.9 x 2.7, modern, emerald green ground with palmette and trellising vine filed centering a pulled star medallion on red ground, lavender floral spandrels, floral and trellising vine guard border on red ground. Rec'd—March 08, 2002. Est. value: $400.00. To be retained for official display | 5 U.S.C. 7342(f)(4) | Non-acceptance would have caused embarrassment to donor and U.S. Government.
George J. Tenet, Director, Central Intelligence | Caucasian rug, 6.6 x 5, modern, red ground with palmette and trellising vine and urn field centering a pulled medallion on navy blue-to-red ground, flowering urn vase and trellising vine guard border on navy blue ground. Rec'd—October 30, 2003. Est. value: $300.00. To be retained for official display | 5 U.S.C. 7342(f)(4) | Non-acceptance would have caused embarrassment to donor and U.S. Government.
An Agency Employee | Isphahan rug, 7.11 x 5.2, modern, red ground with palmette and trellising vine field centering a pulled star medallion on navy blue ground, palmette and trellising vine guard border on navy blue ground with signature cartouche and woven Setrafiani/Esphahan. Note: silk warp. Rec'd—April 14, 2003. Est. value: $2,500.00. To be retained for official display | 5 U.S.C. 7342(f)(4) | Non-acceptance would have caused embarrassment to donor and U.S. Government.
An Agency Employee | Rug, 10.2 x 6.10, modern, brown ground with seven vertical rows of gulls, multi guard boarder on primary brown ground. Rec'd—November 01, 2002. Est. value: $500.00. To be retained for official display | 5 U.S.C. 7342(f)(4) | Non-acceptance would have caused embarrassment to donor and U.S. Government.
An Agency Employee | Lalique molded and frosted glass center bowl of Stalking Leopards amidst palm fronds, inscribed Lalique/France. D: 93/4 inches. Rec'd—June 16, 2003. Est value: $400.00. To be retained for official display | 5 U.S.C. 7342(f)(4) | Non-acceptance would have caused embarrassment to donor and U.S. Government.
An Agency Employee | One-ounce gold bouillon ‘Ary Dubai’, in a plastic sleeve. 99.9 percent pure. Rec'd—Unknown. Est value: $400.00. To be retained for official display | 5 U.S.C. 7342(f)(4) | Non-acceptance would have caused embarrassment to donor and U.S. Government.
An Agency Employee | Hallmark, 18 karat yellow gold chain link necklace, modern, in a light green velvet case. L: 21½ inches Weight: 1 oz. Rec'd—Unknown. Est value: $350.00. To be retained for official display | 5 U.S.C. 7342(f)(4) | Non-acceptance would have caused embarrassment to donor and U.S. Government.
An Agency Employee | (22 karat yellow gold) chain necklace with melee diamond star pendant, modern, in a blue velvet case. Rec'd—Unknown. Est value: $300.00. To be retained for official display | 5 U.S.C. 7342(f)(4) | Non-acceptance would have caused embarrassment to donor and U.S. Government.
An Agency Employee | Olivewood relief plaque of The Last Supper, modern, in a rustic self olivewood frame, Overall: 18 x 27 inches. Rec'd—Unknown. Est value: $300.00. To be retained for official display | 5 U.S.C. 7342(f)(4) | Non-acceptance would have caused embarrassment to donor and U.S. Government.
An Agency Employee | Embossed silver foliate footed bowl and six individuals dishes, each embossed with floral reserves against a punchwork groud, in a red vinyl and red velvet lined fitted case. D of largest bowl: 8 inches. Rec'd—Unknown. Est value: $300.00. To be retained for official display | 5 U.S.C. 7342(f)(4) | Non-acceptance would have caused embarrassment to donor and U.S. Government.
An Agency Employee | Unmarked gold mounted ivory five-piece ensemble, modern, consisting of: a leaf pendant necklace, pair of leaf pierced earrings, four-section tubular bracelet and a ring, in a emerald green velvet fitted case. Rec'd—June 20, 2003. Est value: $300.00 To be retained for official display | 5 U.S.C. 7342(f)(4) | Non-acceptance would have caused embarrassment to donor and U.S. Government.
An Agency Employee | Gretata-Duval (Middle Eastern 20th Century) Figures Gathered in a Town Square signed Gretata-Duval, lower left oil on canvas. 22 x 18 inches. Rec'd—January 01, 2003. Est value: $300.00. To be retained for official display | 5 U.S.C. 7342(f)(4) | Non-acceptance would have caused embarrassment to donor and U.S. Government.

Agency: NASA
[Report of travel or expenses of travel]
Name | Description and value | Donor government | Justificaton
Jeffrey A. Hoffman, NASA HAQ, Code M | Rec'd—March 14, 2003. Value: $2,200.000. Airfare, Hotel and Meals | Foundation for Strategic Research (Paris, France) | Participation in conference on the role of research Universities in High Technology and the Trans-Atlantic Relationship.

U.S. House of Representatives
[Report of travel or expenses of travel]
Name and title of person accepting travel or travel expenses consistent with the interests of the U.S. Government | Brief description and estimated value of travel or travel expenses accepted as consistent with the interests of the U.S. Government and occurring outside the United States | Identity of foreign donor and government | Circumstances justifying acceptance
M. Douglass Bellis, Deputy Legislative Counsel | Room in Rose Hall, Jamaica while speaking at conference on legislative drafting, July 15-July 18, 2003 | University of West Indies | Authorized by 5 U.S.C. § 7342(c)(1)(B)(ii)
Terrance W. Gainer, Chief of Police | Six nights' lodging at Hilton Tel Aviv and meals; ground transportation including day trip to Jerusalem in government vehicle, January 10, 2003-January 17, 2003 | Israel | Authorized by 5 U.S.C. § 7342(c)(1)(B)(ii).

United States Senate
[Report of travel or expenses of travel—calendar year 2003]
Name and title of person accepting travel expenses consistent with the interests of the U.S. Government | Brief description of travel or expenses accepted as consistent with the interests of the U.S. Government and occurring outside the United States | Identity of foreign donor and government | Circumstances justifying acceptance
Mr. & Mrs. Lamar Alexander, U.S. Senator and spouse | August 26-27, 2003. Transportation via Government of Botswana aircraft from Gaborne to Kasane and back | Government of Botswana | Official transportation within Botswana offered by the President of Botswana and accepted for reasons of security and protocol.
Mr. Bruce J. Artim, Fellow, Committee on the Judiciary | May 25-28, 2003. Transportation and meals within the country of Chile | Government of Chile | Official travel to gather information in advance of the signing and Congressional Action on the U.S.-Chile Free Trade Agreement.
Mr. Steve Biegun, Staff Member, Majority Leader | August 26-27, 2003. Transportation via Government of Botswana aircraft from Gaborne to Kasane and back | Government of Botswana | Official transportation within Botswana offered by the President of Botswana and accepted for reasons of security and protocol.
Mr. Christopher E. Campbell, Professional Staff Member, Committee on the Judiciary | May 25-28, 2003. Transportation and meals within the country of Chile | Government of Chile | Official travel to gather information in advance of the signing and Congressional Action on the U.S.-Chile Free Trade Agreement.
Mr. & Mrs. Mike DeWine, U.S Senator and spouse | August 26-27, 2003. Transportation via Government of Botswana aircraft from Gaborne to Kasane and back | Government of Botswana | Official transportation within Botswana offered by the President of Botswana and accepted for reasons of security and protocol.
Mr. & Mrs. Mike Enzi, U.S. Senator and spouse | August 26-27, 2003. Transportation via Government of Botswana aircraft from Gaborne to Kasane and back | Government of Botswana | Official transportation within Botswana offered by the President of Botswana and accepted for reasons of security and protocol.
Mr. and Mrs. William Frist, Senate Majority Leader and spouse | August 26-27, 2003. Transportation via Government of Botswana aircraft from Gaborne to Kasane and back | Government of Botswana | Official transportation within Botswana offered by the President of Botswana and accepted for reasons of security and protocol.
Mr. Andy Olson, Staff Member, Office of Senator Frist | August 26-27, 2003. Transportation via Government of Botswana aircraft from Gaborne to Kasane and back | Government of Botswana | Official transportation within Botswana offered by the President of Botswana and accepted for reasons of security and protocol.
Mr. David Schiappa, Secretary for the Majority | August 26-27, 2003. Transportation via Government of Botswana aircraft from Gaborne to Kasane and back | Government of Botswana | Official transportation within Botswana offered by the President of Botswana and accepted for reasons of security and protocol.
Mr. George Tolbert, Photographer, Sergeant at Arms | August 26-27, 2003. Transportation via Government of Botswana aircraft from Gaborne to Kasane and back | Government of Botswana | Official transportation within Botswana offered by the President of Botswana and accepted for reasons of security and protocol.
Ms. Sally Walsh, Director, Inter-Parliamentary Services | August 26-27, 2003. Transportation via Government of Botswana aircraft from Gaborne to Kasane and back | Government of Botswana | Official transportation within Botswana offered by the President of Botswana and accepted for reasons of security and protocol.
Mr. John Warner, U.S. Senator | August 26-27, 2003. Transportation via Government of Botswana aircraft from Gaborne to Kasane and back | Government of Botswana | Official transportation within Botswana offered by the President of Botswana and accepted for reasons of security and protocol.

United States Senate
[Report of tangible gifts—calendar year 2003]
Name and title of person accepting gift on behalf of the U.S. Government | Gift, date of acceptance on behalf of the U.S. Government, estimated value and current disposition or location | Identity of foreign donor and government | Circumstances justifying acceptance
Hillary Rodham Clinton, U.S. Senator | Recd.—January 28, 2003. Gold pin in the shape of a drum. Est. Value—Unknown. Deposited with the Secretary of the Senate | First Lady of Liberia | Non-Acceptance would cause donor embarrassment.
Hillary Rodham Clinton, U.S. Senator | Recd.—January 28, 2003. Small handbag by artist Geon Man Lee. Est.Value—Unknown. Deposited with the Secretary of the Senate | Seung Youn Kim, Ambassador for International Economic & Trade, Republic of Korea | Non-Acceptance would cause donor embarrassment.
Hillary Rodham Clinton, U.S. Senator | Recd.—April 10, 2003. Copy of earrings in exhibition case for the 5th/6th century. Est. Value—Unknown. Displayed in SR-476 | Park Kwan Yong, Speaker of the National Assembly, Seoul, South Korea | Non-Acceptance would cause donor embarrassment.
Hillary Rodham Clinton, U.S. Senator | Recd.—November 29, 2003. Replica of a Kuwaiti sailboat with gold plating. Est. Value—Unknown. Deposited with the Secretary of the Senate | Presented on behalf of the Emir of Kuwait by H.H. Sheika Amthal Al-Ahmed Al-Jaoer Al-Sabah | Non-Acceptance would cause donor embarrassment.
Chuck Hagel, U.S. Senator | Recd.—May 27, 2003. Limited edition gold coin from State of Bahrain. Est. Value—$3,000. Displayed in SR-247A | H.H Sheikh Hamad Bin Isa Al-Khalifa, Crown Prince & Commander in Chief of the Bahrain Defense Force | Non-Acceptance would cause donor embarrassment.
Carl Levin, U.S. Senator | Recd.—February 18, 2003. Silverplated engraved bowl. Est. Value—$101. Deposited with the Secretary of the Senate | President Pervez Musharraf of Pakistan | Non-Acceptance would cause donor embarrassment.
Carl Levin, U.S. Senator | Recd.—February 18, 2003. Handcrafted, round wooden table with a gold decorative design. Est. Value—$101. Deposited with the Secretary of the Senate | General Muhammad Yusaf Khan, Pakistan Army | Non-Acceptance would cause donor embarrassment.
Richard Lugar, U.S. Senator | Recd.—February 24, 2003. Abstract hanging sculpture by artist Oh Yi-Yang. Est. Value—$100. Displayed in SD-450 | Dr. Dai-Chul Chyung, Member of the South Korean National Assembly | Non-Acceptance would cause donor embarrassment.
Richard Lugar, U.S. Senator | Recd.—April 9, 2003. Six Crystal Glasses. Est. Value—Over $100. Displayed in SD-450 | Rudolf Schuster, President of the Slovak Republic | Non-Acceptance would cause donor embarrassment.
Richard Lugar, U.S. Senator | Recd.—June 10, 2003. Crystal Decanter. Est. Value—Over $100. Displayed in SD-450 | Dr. Borut Pahor, President of the National Assembly of the Republic of Slovenia | Non-Acceptance would cause donor embarrassment.
Richard Lugar, U.S. Senator | Recd.—October 8, 2003. Black vase with blue flowers. Est. Value—Over $100. Displayed in SH-521 | Prime Minister Victor Yanukouych of the Ukraine | Non-Acceptance would cause donor embarrassment.
Richard Lugar, U.S. Senator | Recd.—October 15, 2003. Elegant pen set. Est. Value—Over $100. Displayed in SD-450 | King Abdullah and Queen Rania of Jordan | Non-Acceptance would cause donor embarrassment.
Richard Lugar, U.S. Senator | Recd.—November 4, 2003. Embellish bottle and glasses. Est. Value—Over $100.Displayed in SD-450 | The Honorable Sergey Mironov, Speaker the Russian Federation Council | Non-Acceptance would cause donor embarrassment.
John F. Reed, U.S. Senator | Recd.—November 26, 2003. Rug from Afghanistan. Est. Value—$1000. Displayed in SH-728 | President Karzai of Afghanistan | Non-Acceptance would cause donor embarrassment.

[FR Doc. 04-16971 Filed 7-30-04; 8:45 am]

BILLING CODE 4710-20-M